DEPARTMENT OF THE INTERIOR

Fish and Wildlife Service

50 CFR Part 32

[Docket No. FWS-HQ-NWRS-2024-0034; FXRS12610900000-245-FF09R20000]

RIN 1018-BH17

National Wildlife Refuge System; 2024-2025 Station-Specific Hunting and Sport Fishing Regulations

AGENCY: Fish and Wildlife Service, Interior.

ACTION: Final rule.

SUMMARY: We, the U.S. Fish and Wildlife Service (Service), open or expand hunting opportunities on 12 National Wildlife Refuges (NWRs). We also close hunting on 111 acres at Crab Orchard NWR so that the area can be repurposed for other recreational uses, including camping. We also make changes to existing station-specific regulations in order to reduce the regulatory burden on the public, increase access for hunters and anglers on Service lands and waters, and comply with a Presidential mandate for plain-language standards. Finally, the best available science, analyzed as part of this rulemaking, indicates that lead ammunition and tackle have negative impacts on both wildlife and human health. With this final rule, Canaan Valley NWR in West Virginia will require lead-free ammunition for all hunting on the new Big Cove Unit. Additionally, Des Lacs, J. Clark Salyer, Lostwood, and Upper Souris NWRs in North Dakota will require lead-free ammunition for newly opened elk hunting. While the Service continues to evaluate the future of lead use in hunting and fishing on Service lands and waters, this rulemaking does not include any opportunities that increase or authorize the new use of lead.

DATES: This rule is effective November 6, 2024.

FOR FURTHER INFORMATION CONTACT: Christian Myers, (571) 422-3595. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate to meet these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (Recreation Act; 16 U.S.C. 460k-460k-4) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Summary of Comments and Responses

On August 2, 2024, we published in the Federal Register (89 FR 63139) a proposed rule to open or expand hunting and fishing opportunities at 12 refuges for the 2024-2025 hunting seasons. We accepted public comments on the proposed rule for 30 days, ending September 3, 2024. By that date, we received 154 comments on the proposed rule. More than two-thirds of these comments were identical or nonsubstantive comments. We received 68 unique comments, and 47 of those comments were substantive. We discuss the unique, substantive comments we received below by topic. Beyond our responses below, additional station-specific information on how we responded to comments on particular hunting or fishing opportunities at a given refuge or hatchery can be found in that station's final hunting and/or fishing package, each of which can be located in Docket No. FWS-HQ-NWRS-2024-0034 on https://www.regulations.gov.

Comment (1): We received more than 100 comments expressing general support for the proposed hunting expansions in the rule. These comments of general support either expressed appreciation for the increased hunting access in the proposed rule overall, expressed appreciation for increased access at particular refuges, or both. In addition to this general support, some commenters requested additional hunting and fishing opportunities. Requests for additional opportunities to hunt waterfowl were most common.

Our Response: Hunting and fishing on Service lands is a tradition that dates back to the early 1900s. In passing the Improvement Act, Congress reaffirmed that the Refuge System was created to conserve fish, wildlife, plants, and their habitats, and would facilitate opportunities for Americans to participate in compatible wildlife-dependent recreation, including hunting and fishing, on Refuge System lands. We prioritize wildlife-dependent recreation, including hunting and fishing, when doing so is compatible with the purpose of the refuge and the mission of the Refuge System.

We will continue to open and expand hunting and sport fishing opportunities across the Refuge System; however, as detailed further in our response to Comment (2), below, opening or expanding hunting or fishing opportunities on Service lands is not a quick or simple process. The annual regulatory cycle begins in June or July of each year for the following hunting and sport fishing season (the planning cycle for this 2024-2025 final rule began in June 2023). This annual timeline allows us time to collaborate closely with our State, Tribal, and Territorial partners, as well as other partners including nongovernmental organizations, on potential opportunities. It also provides us with time to complete environmental analyses and other requirements for opening or expanding new opportunities. Therefore, it would be impracticable for the Service to complete multiple regulatory cycles in one calendar year due to the logistics of coordinating with various partners. Once we determine that a hunting or sport fishing opportunity can be carried out in a manner compatible with individual station purposes and objectives, we work expeditiously to open it. In addition to creation of new opportunities, this also applies to commenter requests for changes in the season dates, days of the week, hours open, methods of take, or other logistical requirements that would expand existing opportunities, including those that would also align our hunting and fishing regulations more closely with State hunting and fishing regulations.

Within the context of these continuous annual regulatory cycles, the Service does welcome nongovernmental organizations and individual hunters and anglers sharing their thoughts on potential future opportunities through public comments and other opportunities. We seek to provide hunting and fishing opportunities that both serve our wildlife conservation and management objectives and provide the highest quality recreational experience that we can offer for hunters and anglers, including when it comes to waterfowl hunting specifically, so we give due consideration to the requests and recommendations that we receive.

We did not make any changes to the rule as a result of these comments.

Comment (2): Several commenters expressed general opposition to any hunting or fishing in the Refuge System. Some of these commenters stated that hunting was antithetical to the purposes of a “refuge,” which, in their opinion, should serve as an inviolate sanctuary for all wildlife. The remaining commenters generically opposed expanded hunting or fishing opportunities at specific stations, or opposed specific hunting activities such as waterfowl hunting.

Our Response: The Service prioritizes facilitating wildlife-dependent recreational opportunities, including hunting and fishing, on Service land in compliance with applicable Service law and policy. For refuges, the Administration Act, as amended, stipulates that hunting (along with fishing, wildlife observation and photography, and environmental education and interpretation), if found to be compatible, is a legitimate and priority general public use of a refuge and should be facilitated (16 U.S.C. 668dd(a)(3)(D)). Thus, we only allow hunting of resident wildlife on Refuge System lands if such activity has been determined compatible with the established purpose(s) of the refuge and the mission of the Refuge System as required by the Administration Act. For the 12 stations opening or expanding hunting or fishing in this rule, we determined that the proposed actions were compatible.

Each station manager makes a decision regarding hunting and fishing opportunities only after rigorous examination of the available information, consultation and coordination with States and Tribes, and compliance with the National Environmental Policy Act (NEPA; 42 U.S.C. 4321 et seq.) and section 7 of the Endangered Species Act of 1973, as amended (ESA; 16 U.S.C. 1531 et seq.), as well as other applicable laws and regulations. The many steps taken before a station opens or expands a hunting or fishing opportunity on the refuge ensure that the Service does not allow any opportunity that would compromise the purpose of the station or the mission of the Refuge System.

Hunting of resident wildlife on Service lands generally occurs consistent with State regulations, including seasons and bag limits. Station-specific hunting regulations can be more restrictive (but not more liberal) than State regulations and often are more restrictive in order to help meet specific refuge objectives. These objectives include resident wildlife population and habitat objectives, minimizing disturbance impacts to wildlife, maintaining high-quality opportunities for hunting and other wildlife-dependent recreation, minimizing conflicts with other public uses and/or refuge management activities, and protecting public safety.

The word “refuge” includes the idea of providing a haven of safety as one of its definitions, and as such, hunting might seem an inconsistent use of the Refuge System. However, again, the Administration Act stipulates that hunting, if found compatible, is a legitimate and priority general public use of a wildlife refuge. Furthermore, we manage refuges to support healthy wildlife populations that in many cases produce harvestable surpluses that are a renewable resource. As practiced on refuges, hunting and fishing do not pose a threat to wildlife populations. It is important to note that taking certain individuals through hunting does not necessarily reduce a population overall, as hunting can simply replace other types of mortality. In some cases, however, we use hunting as a management tool with the explicit goal of reducing a population; this is often the case with exotic and/or invasive species that threaten ecosystem stability. Therefore, facilitating hunting opportunities is an important aspect of the Service's roles and responsibilities as outlined in the legislation establishing the Refuge System, and the Service will continue to facilitate these opportunities where compatible with the purpose of the specific refuge and the mission of the Refuge System.

We did not make any changes to the rule as a result of these comments.

Comment (3): We received comments from the West Virginia Division of Natural Resources, the Louisiana Department of Wildlife and Fisheries, the Association of Fish and Wildlife Agencies, and the Northeast Association of Fish and Wildlife Agencies on the opportunities in the proposed rule. The West Virginia Division of Natural Resources supported the expansion of hunting at Canaan Valley NWR, but also expressed concern that requiring lead-free ammunition on the new Big Cove Unit could reduce hunter participation, reduce take of deer, and create enforcement challenges. The West Virginia Division of Natural Resources also recommended incentive-based approaches to the use of lead-free ammunition. The Louisiana Department of Wildlife and Fisheries commented specifically on the proposed hunt plan for Bayou Teche NWR and expressed support for the expanded hunting access. The Association of Fish and Wildlife Agencies expressed general support for increased access for hunters and anglers, but expressed concerns about the Service's position on the use of lead ammunition and the individual refuges introducing lead-free ammunition requirements; the Association of Fish and Wildlife Agencies also expressed appreciation for coordination and communication between the Service and State agencies and advocated for the Service to pursue approaches based in education and incentives that encourage hunters to voluntarily choose to use lead-free ammunition, in particular the voluntary incentive pilot program developed in collaboration with the Hunting and Wildlife Conservation Council, an external stakeholder advisory group for the Department of the Interior. The Northeast Association of Fish and Wildlife Agencies expressed support for the Service increasing hunting and fishing opportunities and for the Service's pilot program for providing hunters with incentives to voluntarily use lead-free ammunition, but objected to the regulations requiring the use of lead-free ammunition as inconsistent with State regulations and as lacking sufficient scientific support.

Our Response: The Service appreciates the support of, and is committed to working with, our state partners to identify additional opportunities for expansion of hunting and sport fishing on Service lands and waters. We welcome and value State partner input on all aspects of our hunting and fishing programs.

In response to the West Virginia Division of Natural Resources, we appreciate the support for the expanded hunting acres for all existing hunting and acknowledge the concerns expressed with the lead-free ammunition requirement on the new Big Cove Unit. As to the recommendation to explore incentives for the use of lead-free ammunition, we are actively implementing a pilot program to test out direct incentives for hunters to voluntarily use lead-free ammunition for designated hunts at Canaan Valley NWR and six other refuges in the fall of 2024, as discussed in our response to Comment (4), below. On the concerns about hunter participation and harvest rates related to the lead-free ammunition requirement, as discussed in more detail in our responses to Comments (6) through (13), below, the Service has not seen evidence of hunter participation declines elsewhere in response to lead-free requirements, and, accordingly, we do not anticipate insufficient harvest of deer. Also, in the specific case of Canaan Valley NWR, even if declines in hunter participation on the Big Cove Unit were to occur in response to the lead-free ammunition requirement, hunters would likely simply shift their activities to the other hunt units of the same refuge and still harvest from the same deer population. On the concern about enforcement challenges for the lead-free ammunition requirement, as discussed in our response to Comment (14), below, we are confident in our ability to enforce the regulations, since this requirement does not fundamentally differ from existing regulations elsewhere in the Refuge System and our law enforcement personnel receive applicable training.

In response to the Louisiana Department of Wildlife and Fisheries, we appreciate the support for the new opportunities at Bayou Teche NWR and look forward to collaboration and coordination on potential future hunting and fishing opportunities in Louisiana.

In response to the Association of Fish and Wildlife Agencies, we appreciate the support for the hunting and fishing openings and expansions in this rulemaking and value our shared commitment to compatible hunter and angler access on the National Wildlife Refuge System. We also appreciate the support for our lead-free voluntary incentive pilot program, developed in collaboration and coordination with State agencies in the seven States where the pilot sites are located. As discussed in our response to Comment (4), below, we are committed to robustly pursuing this voluntary approach and evaluating the potential efficacy for addressing lead poisoning in wildlife. At the same time, the Service's position remains that the best available science demonstrates the impacts of lead ammunition on wildlife and ecological health and supports the Service not introducing new opportunities that would increase the use of lead ammunition until we have identified the best path forward. Our lead-free pilot program could produce a voluntary incentive model that proves to be the best path forward, but we must first take time to test out the incentives, collect data, and evaluate our results. Going forward, we will continue to invite input and involvement from the Association of Fish and Wildlife Agencies and our individual State partners as we continue to evaluate the future of lead use on Service lands and waters as part of an open and transparent process to find the best methods to address lead's impact on wildlife and ecological health. As to the Association of Fish and Wildlife Agencies' objections to regulations requiring lead-free ammunition use, see our responses to Comments (7) through (9), below, addressing the concerns about scientific evidence, cost, and availability, which are shared by some other commenters. Similarly, see our response to Comment (14), below, regarding commenters' concerns about the enforceability of lead-free ammunition requirements.

In response to the Northeast Association of Fish and Wildlife Agencies, we value the support for the increased recreational access through this rule and appreciate the recognition of our collaboration and coordination on increasing access and on exploring voluntary incentives for the use of lead-free ammunition. We disagree with the notion that there is insufficient scientific evidence to support regulatory requirements for hunters to use lead-free ammunition, as discussed in our response to Comment (7), below, but the Service is willing to address the demonstrated poisoning of wildlife from the use of lead ammunition for hunting through voluntary incentives, should they prove to be sufficiently effective. As to the concern that such regulations typically differ from State regulations, while we endeavor to align our regulations with State regulations wherever feasible, the Service routinely sets requirements for hunters and anglers that are more restrictive than the applicable State regulations whenever necessitated by our conservation mission or refuge purposes, as noted in our response to Comment (2), above. Requirements to use lead-free ammunition are one example in this category, alongside limitations on season dates, time of day, methods of take, and more that are similarly necessary because the Service is obligated to prioritize the health of wildlife species and their habitats on Refuge System lands and waters. Hunting and fishing activities must be assessed to be compatible with our conservation mission as authorized by appropriate regulations, and we must introduce further regulations as necessary to ensure their continued compatibility in order to keep a given opportunity open.

We did not make any changes to the rule as a result of these comments.

Comment (4): Several commenters either encouraged the Service to pursue incentives encouraging hunters to voluntarily use lead-free ammunition or specifically expressed support for the Service's new pilot program providing direct incentives for hunters participating in designated hunts at seven selected refuges in the fall of 2024. Most of these commenters noted that they objected to any regulations requiring the use of lead-free ammunition, but some commenters were supportive of both lead-free regulatory requirements and voluntary approaches like the Service's new pilot program.

Our Response: The Service has encouraged and will continue to encourage voluntary use of non-lead ammunition and tackle, including through our new collaborative pilot program for providing direct incentives and robust educational workshops to hunters, but we also have the authority to impose regulatory requirements for use of lead-free ammunition for designated hunting on individual refuges. Notably, the Refuge System, and all Service lands and waters, are different from private, State, and even other Federal public lands. We have legal obligations to prioritize wildlife health and biodiversity, to consider the compatibility of new and ongoing hunting and fishing activities, and to assess the potential impact of these activities on the natural resources under our jurisdiction. The Service is evaluating the future of lead use through an open and transparent process with input from a broad array of partners and stakeholders about the best approach, which may include education and incentives encouraging voluntary choice. During this process, the Service does not intend to authorize hunting and fishing opportunities that increase the use of lead ammunition and tackle on the Refuge System. This is consistent with our full commitment to the lead-free pilot program for hunter education and incentives, which is aimed at identifying the most effective voluntary approach to addressing lead poisoning in wildlife from lead ammunition.

In this rule, the Service has put in place a lead-free ammunition requirement for newly opened elk hunting at four refuges in North Dakota and for all hunting on the new Big Cove Unit at Canaan Valley NWR in West Virginia. These requirements are each either limited to a specific species or to a specific hunt unit. Each of these targeted requirements is based on the best available science and the sound professional judgement of Service personnel, and was put in place only after discussions with the relevant State agency.

We appreciate the support from commenters for our new pilot program for providing hunters with educational workshops and direct economic incentives to voluntarily use lead-free ammunition. The Service was able to collaborate with some of the commenter organizations and others, in particular the Hunting and Wildlife Conservation Council, in the design of the lead-free pilot program. The Service is also collaborating with individual State agencies and the North American Non-Lead Partnership in implementing the pilot program. We are encouraged by the potential for the pilot program to identify and demonstrate the most effective voluntary approach to addressing lead ammunition impacts to wildlife and ecological health.

The 2024 iteration of the pilot program will take place for designated hunts at seven selected refuges throughout the Refuge System. The pilot program is designed to address the hurdles of awareness, demonstrated performance, price, and availability that are considered some of the major barriers for hunters in voluntarily choosing to use lead-free ammunition. Accordingly, at each pilot site, the Service will utilize educational messaging, including voluntary intensive educational workshops with ammunition performance demonstrations at selected sites. Similarly, at each pilot site, we will offer a rebate incentive in the form of a prepaid debit card for eligible hunters who provide proof of their purchase of lead-free ammunition, on a first come, first served basis. The implementation of the pilot program at seven sites in 2024 will mark a substantial step in progress toward addressing poisoning of wildlife from lead ammunition and will set the stage for further refinement of the educational and direct incentive elements of the lead-free pilot program, as well as provide data for analysis of the potential impacts and potential scalability of the program. As we operate the pilot program, we will seek to continue the open and collaborative approach we have utilized thus far and hope to receive continued support and cooperation from hunters and from external hunting and conservation organizations.

We did not make any changes to the rule as a result of these comments.

Comment (5): Several commenters expressed concern over the use of lead ammunition or lead fishing tackle on Service lands and waters. Nearly all of these commenters expressed support for the individual lead-free requirements in the proposed rule. Most of these commenters urged the Service to eliminate the use of lead ammunition and tackle throughout the Refuge System. Many commenters expressed concerns about raptor species, including the bald eagle (Haliaeetus leucocephalus), and other species that scientific studies have shown to be especially susceptible to adverse health impacts from lead ammunition and tackle.

Our Response: The Service appreciates the concerns from commenters about the issue of bioavailability of lead in the environment and is aware of the potential impacts of lead on fish and wildlife. See, for example, the recent study from the U.S. Geological Survey (USGS) with Service collaboration, Vincent Slabe, et al. “Demographic implications of lead poisoning for eagles across North America,” which is available online through a link at https://www.usgs.gov/news/national-news-release/groundbreaking-study-finds-widespread-lead-poisoning-bald-and-golden. Accordingly, the Service pays special attention to species susceptible to lead uptake and to sources of lead that could impact wildlife and ecological health.

Historically, the principal cause of lead poisoning in waterfowl was the high densities of lead shot in wetland sediments associated with migratory bird hunting activities (Kendall et al. 1996). In 1991, as a result of high bird mortality, the Service instituted a nationwide ban on the use of lead shot for hunting waterfowl and coots (see 50 CFR 32.2(k)). However, lead ammunition is still used for other types of hunting, and lead tackle is used for fishing on private and public lands and waters, including within the Refuge System.

Due to the continued lead use outside of waterfowl hunting, there remains concern about the bioavailability of spent lead ammunition (bullets) and fishing tackle on the environment, the health of fish and wildlife, and human health. The Service is aware of fish and wildlife species, including endangered and threatened species, that are susceptible to the build-up of lead in their systems coming directly from their food sources or secondhand through the food ingested by their food sources. There is also evidence that some species are susceptible to direct ingestion of lead ammunition or tackle due to their foraging behaviors. For example, the Service recognizes that ingested lead fishing tackle has been found to be a leading cause of mortality in adult common loons (Grade, T. et al. (2017). Population-level effects of lead fishing tackle on common loons. The Journal of Wildlife Management 82(1): pp. 155-164). The impacts of lead on human health and safety have been a focus of several scientific studies. We are familiar with studies that have found the ingestion of animals harvested via the use of lead ammunition increased levels of lead in the human body (e.g., Buenz, E. (2016). Lead exposure through eating wild game. American Journal of Medicine, 128: p. 458).

It is because of lead's potential for ecological health impacts that, in this rulemaking, the Service has continued to take a measured approach in not adding to the use of lead on refuge lands (see 87 FR 35136, June 9, 2022). Accordingly, the opportunities in this final rule either do not involve the use of lead ammunition or tackle (i.e., waterfowl hunting or archery) or require the use of lead-free ammunition or tackle. This measured approach is also part of the Service's broader commitment to evaluating the future of lead use throughout the Refuge System.

In response to the commenters' request that the Service eliminate the use of lead ammunition and fishing tackle throughout the Refuge System, the Service is committed to doing what best serves the public interest and our conservation mission, including facilitating compatible, wildlife-dependent, recreational hunting and fishing. As we committed to do in our 2021-2022 rulemaking (see 86 FR 48822 at 48830, August 31, 2021) and our 2022-2023 rulemaking (see 87 FR 57108 at 57122, September 16, 2022), the Service has been evaluating, and continues to evaluate, lead use in hunting and fishing on Service lands and waters. This rule is designed to avoid increased use of lead on refuges as the Service continues to evaluate the future of lead use by seeking input from partners, through a transparent process, to inform the determination of what actions and methods are appropriate for addressing the potential for adverse environmental and ecological health impacts. This process includes a commitment to fully exploring a voluntary approach through our new pilot program for hunter education and incentives.

We did not make any changes to the rule as a result of these comments.

Comment (6): Several commenters expressed opposition to the Service requiring the use of lead-free ammunition for designated hunting opportunities at individual refuges in this rule or in general. Some of these commenters simply expressed a general opposition to the concept of lead-free requirements, but the rest put forward one or more points in arguing against lead-free requirements. The concerns collectively expressed by these more substantive comments are addressed in Comment (7) through Comment (13), below.

Our Response: The Service has allowed, and with the promulgation of this rule continues to allow, the use of lead ammunition and/or tackle in hunting and sport fishing in most of the Refuge System. The vast majority of stations and individual hunting and fishing opportunities currently permit lead use, consistent with State regulations allowing the use of lead ammunition and tackle. Lead ammunition and tackle are currently allowed where we have previously determined the activity is not likely to result in dangerous levels of lead exposure. However, the Service has been transparent about its intent to seriously consider the future of lead use, consistent with its role as the steward of the Refuge System. Therefore, we are evaluating what is best for the resources belonging to the American public regarding the future use of lead ammunition and tackle on Service lands and waters. The best available science, analyzed as part of this rulemaking, demonstrates that lead ammunition and tackle have negative impacts on both human health and wildlife health, and those impacts are more acute for some species.

We did not make any changes to the rule as a result of these comments.

Comment (7): Most of the comments opposed to regulations concerning the use of lead ammunition questioned the sufficiency of scientific support for lead-free requirements. Some of the commenters also claimed there is specifically a lack of scientific evidence of “population-level” lead impacts and this means lead-free ammunition requirements are unwarranted.

Our Response: We refer commenters concerned about scientific evidence in support of the rulemaking to the analyses of environmental impacts in the NEPA and ESA section 7 documentation for each refuge in this rulemaking and the cumulative impacts report accompanying the rulemaking, which are all available in Docket No. FWS-HQ-NWRS-2024-0034 on https://www.regulations.gov. For our NEPA and ESA section 7 analyses, we considered peer-reviewed scientific studies evaluating the impacts of lead to humans, to wildlife generally, and to specific species—including endangered and threatened species and species especially susceptible to lead ammunition or tackle exposure. While this evidence is not determinative as to whether lead-free ammunition and tackle should be required in all cases, given the full range of factors to consider on the topic of lead use, it is inaccurate to claim that there is no scientific evidence of adverse impacts to human health or wildlife and ecological health, or both, from lead ammunition and tackle or that the Service has not presented such evidence as part of this rulemaking. Each refuge in this rule used the best available science and the expertise and sound professional judgment of refuge staff to determine that our management strategies, including promulgated non-lead requirements, are based on sound science and the specific circumstances of that individual refuge.

Moreover, we also reject the related claim that scientific evidence of so-called “population-level” impacts to wildlife is both a prerequisite to Service action and lacking in the available science. Depending on the situation, we may manage wildlife at the “population level” or at the “individual level,” such as acting to protect individuals of an endangered or threatened species. Similarly, depending on the situation, we may adopt regulations, policies, or practices that respond to or prevent adverse impacts at the population level or to individual animals and plants. In fact, there are clear cases where we need to act preventatively or early to control invasive species, pests, or animal diseases, since they are much more difficult to eradicate when there is “population-level” damage. “Population-level” impacts are not necessary for regulation to the exclusion of any other factors, although in the past the Service and others have regulated lead use based, at least in part, on addressing impacts to whole populations, as demonstrated impacts to waterfowl populations and the population of California condors prompted the 1991 nationwide prohibition on waterfowl hunting with lead ammunition (see 56 FR 22100, May 13, 1991) and the 2019 prohibition on hunting with lead ammunition in California (see California Assembly Bill No. 711, California Fish and Game Code at section 3004.5), respectively. In any case, the scientific literature demonstrates that lead use has “population-level” impacts.

There is evidence of population-level impacts and potential population-level impacts to waterfowl and upland game bird species from lead fishing tackle and lead ammunition through direct ingestion. Lead fishing tackle presents a risk of lead poisoning to many waterfowl species, including loons and swans (Pokras and Chafel 1992; Rattner et al. 2008; Strom et al. 2009). The primary concerns are discarded whole or fragmented lead sinkers, as well as other lead tackle and even lead ammunition released into the water, that rest on river and lake bottoms where diving birds ingest them alongside pebbles, as pebbles are necessary to break down food through grinding in the birds' digestive systems. This results in lead poisoning because the grinding action breaks down the pieces of ingested lead into fine lead particles inside of the birds that can then enter their blood streams. Studies have consistently found impacts of ingested lead fishing tackle are a leading cause of mortality in adult common loons (Pokras and Chafel 1992; Scheuhammer and Norris 1995; Franson et al. 2003; Pokras et al. 2009; Grade et al. 2017; Grade et al. 2019). Strom et al. (2009) assessed lead exposure in Wisconsin birds and found that approximately 25 percent of the trumpeter swan fatalities from 1991 through 2007 were attributed to ingested lead. Also, lead ammunition discarded on land presents a similar risk of lead poisoning from upland game birds swallowing discarded ammunition alongside the pebbles they use for digestion.

Another source of population-level impacts and potential population-level impacts from lead is indirect ingestion by birds of prey and other scavengers from consuming animals shot with lead ammunition. The primary concerns for birds of prey are lead fragments from lead ammunition that remain in the carcasses and gut piles of hunted animals that are scavenged by these birds. The fine fragments of lead, observable in x-rays of harvested game animals, are ingested because they are embedded in the meat and other animal tissues being scavenged and then enter the digestive systems and blood streams of the birds of prey. Many studies have looked at the impacts of this lead exposure to eagle health (see, e.g., Kramer and Redig 1997; O'Halloran et al. 1998; Kelly and Kelly 2005; Golden et al. 2016; Hoffman 1985a, 1985b; Pattee 1984; Stauber 2010). This includes the recent study, published in 2022, from the USGS with Service collaboration, Vincent Slabe, et al. “Demographic implications of lead poisoning for eagles across North America,” which is available online via a link at https://www.usgs.gov/news/national-news-release/groundbreaking-study-finds-widespread-lead-poisoning-bald-and-golden. This study explicitly finds that lead poisoning is causing population growth ratesto slowfor bald eagles by 3.8percentand golden eagles by 0.8 percent annually. These growth-slowing impacts to populations are statistically significant and, in the case of bald eagles, are occurring for a species that was previously endangered and is still in the process of recovering to historical levels. Thus, it is inaccurate to claim there are not known “population-level” impacts from lead use.

Finally, the Service's mission and statutory obligations require refuges to be closed to hunting and fishing by default, and this changes only when we have determined hunting or fishing activities are compatible with our conservation mission and we have promulgated regulations to open designated areas to hunting and fishing. Hunting and fishing access and opportunities are thus constrained by the regulations to only those activities that are compatible. Thus, the Service has an obligation to demonstrate, using the best available science, that any given aspect of hunting or fishing on the Refuge System is compatible with our mission. The Service has also built into our compatibility process the need to reevaluate compatibility determinations after a set period, either 10 or 15 years, depending on the use, because new science or new conditions could compel the Service to change our compatibility determinations. In the case of the use of lead, our past determinations that lead ammunition and lead tackle were permissible to use on Refuge System lands does not change this fundamental structure of our processes. The use of lead ammunition and tackle, like any other visitor activity, can only be allowed on a refuge if, and only for as long as, the refuge applies the best available science and sound professional judgment to find it compatible. The suggestion from some commenters that historical use of lead or past determinations that lead use was compatible compels us to find the future use of lead compatible is therefore counter to our mission and statutory obligations. This suggestion also ignores the accumulation of lead in the environment over time. The Service will continue to revisit our compatibility determinations, as required, while considering the best available science and applying sound professional judgment.

We did not make any changes to the rule as a result of these comments.

Comment (8): Some commenters opposed to requirements in this rule to use lead-free ammunition claimed lead-free ammunition is more expensive than lead ammunition. Some of these commenters further expressed the concern that lead-free ammunition requirements could prevent participation in hunting due to price differences.

Our Response: We do not agree that lead-free ammunition is prohibitively expensive, especially in comparison to lead ammunition. However, we recognize that there could be some cost burden of compliance for hunting and fishing opportunities where lead-free ammunition or tackle is required. For example, lead-free ammunition is very close in price to premium lead ammunition but can be more expensive than some lead ammunition. Notably, the Maine Department of Inland Fisheries and Wildlife and others have recognized that this cost difference is typically less than $10 per box of ammunition, with boxes usually lasting multiple hunting seasons (see online at https://www.maine.gov/ifw/hunting-trapping/hunting/nonlead-ammunition.html).

When we have restricted lead ammunition use, we have first ensured that the ecological health and conservation benefits outweigh any potential for cost burden on hunters. We are confident that non-lead ammunition is not cost-prohibitive, as hunting continues on all Refuge System stations where we have restricted lead use. Moreover, we have not seen declines in hunting use attributable to lead-free ammunition requirements. In other words, hunting-use day declines at stations that require lead-free ammunition do not appear to deviate from general trends of declining hunting participation that affect all stations in the Refuge System. Where we have seen meaningful declines is in the price of lead-free ammunition options, as there has been a continuous trend for years of decreasing prices, and the 1991 nationwide ban on lead ammunition for waterfowl hunting shows that regulations can spur innovation and production, which brings the prices down for lead-free options.

Finally, even though the cost burden of compliance with lead-free ammunition requirements on individual refuges is not onerous, the Service is considering various measures to incentivize hunters to transition from lead to lead-free ammunition and mitigate the costs of the transition. In fact, we are in the process of implementing an ambitious lead-free voluntary pilot program, beginning this fall for the 2024 hunting seasons, that includes providing direct economic incentives to hunters to address the price difference as a barrier to choosing lead-free ammunition. This pilot program is discussed further in our response to Comment (4), above. We look forward to continuing to work closely with the Hunting and Wildlife Conservation Council, the Association of Fish and Wildlife Agencies, our state agency partners, and other hunting organizations to further develop our lead-free voluntary pilot program.

We did not make any changes to the rule as a result of these comments.

Comment (9): Most commenters opposed to non-lead ammunition and tackle requirements asserted that there is limited availability of lead-free ammunition compared to that of lead ammunition, such that requiring lead-free ammunition would prevent participation in refuge hunting opportunities. Some of these commenters further noted that the availability of non-lead ammunition is more limited for certain firearms and types of ammunition, especially .22 rifle ammunition. One commenter also, tangentially to the topic of availability, stated that the Gun Control Act of 1968, as amended (GCA; 18 U.S.C. 921 et seq.), and associated Bureau of Alcohol, Tobacco, Firearms and Explosives (ATF) regulations (27 CFR part 478) concerning armor piercing ammunition hinder the production and thus availability of lead-free ammunition.

Our Response: We do not agree that lead-free ammunition and tackle are insufficiently available to hunters and anglers in localities where we have restricted the use of lead ammunition or tackle, either in the past or through this rulemaking. However, we recognize that there could be some compliance burden in identifying and locating lead-free ammunition and tackle for hunting and fishing opportunities, where required. Where we have restricted lead use in the past or will restrict it through this rulemaking, we have ensured that the ecological health and conservation benefits outweigh any potential for compliance burden on hunters and anglers, including the ease of locating available lead-free ammunition and tackle. As with the costs of lead-free options, for opportunities where lead-free ammunition or tackle are required, the Service has not seen declines in hunting or fishing participation that can be attributed to lead-free ammunition or tackle being less widely available than lead ammunition and tackle. Also, as with costs, there are existing trends of increasing availability of lead-free options, and the 1991 national ban on lead ammunition for waterfowl hunting demonstrates that regulations requiring the use of lead-free ammunition can promote increased availability. Also, the pilot program that the Service is implementing this fall for the 2024 hunting seasons will also help to address availability, as more hunters voluntarily participate and the increased demand gives manufacturers a reason to produce, and retailers a reason to offer, more lead-free ammunition. In fact, the Service is interested in collaboration with retailers that can directly address awareness and availability of lead-free ammunition and tackle as we continue to develop our pilot program.

Additionally, we recognize that non-lead ammunition may be less available than lead ammunition, in general, for some models of firearms and certain ammunition calibers. This is especially concerning, as noted by some commenters, for .22 rifle ammunition where existing lines of lead-free ammunition have been recently discontinued. Lead-free ammunition remains available, but this development will impact availability and could impact refuge hunting where lead-free ammunition is required, particularly squirrel hunting. The Service will continue to monitor the lead-free options in the market and take the information into account in deciding whether and where to require lead-free ammunition. We also encourage industry and retailers to continue to manufacture and offer more lead-free ammunition options so that ammunition is available to hunters, whether they are required, or voluntarily choose, to use lead-free ammunition.

Finally, the claim that the Gun Control Act of 1968 (GCA) and associated ATF regulations concerning armor piercing ammunition hinder the production and thus availability of lead-free ammunition is beyond the scope of this rulemaking. However, the Service has raised this issue with the ATF at the recommendation of the Hunting and Wildlife Conservation Council.

We did not make any changes to the rule as a result of these comments.

Comment (10): A few commenters pointed to sources of lead, other than hunting and fishing with lead ammunition and tackle, in the environment. These commenters asserted that the Service should not have lead-free ammunition and tackle requirements because these other sources of lead also cause negative health impacts for fish and wildlife.

Our Response: While there are of course other potential sources of lead in the environment, including other sources that may be bioavailable to wildlife, the Service does not see this as diminishing the importance or conservation benefits of addressing lead poisoning of wildlife from hunting with lead ammunition or from fishing with lead tackle. While these other sources of lead vary in the degree of risk that they could present to wildlife, the Service is duly concerned by the health risks from any potential source of lead exposure for wildlife and humans. There are likely benefits to be had from efforts to address each of these sources in turn, but that is generally beyond the scope of this rulemaking.

Moreover, these other potential sources of lead do not change the fact that the best available science has drawn a clear link between the use of lead ammunition and tackle and its ecological health impacts. In fact, the study from Slabe et al. (2022), cited earlier in our response to Comment (7), provides strong evidence that not only is there an impact to eagles from lead ammunition specifically, but there is also strong evidence that it represents the most important source of lead exposure for the species studied. Essentially, the study demonstrated that the highest rates of acute lead poisoning in eagles, measured by liver lead concentrations, corresponded in terms of timing with the use of lead ammunition in the form of a nationwide spike in lead poisoning during winter months in the midst of hunting seasons. To the extent other sources of lead do bear on our decisions about lead ammunition and tackle use, these additional lead sources in fact weigh in favor of lead-use restrictions, as lead can accumulate in wildlife from repeated exposure from one or multiple sources (see, e.g., Behmke 2015). Similarly, the Service is also not discouraged from either incentivizing or requiring the use of lead-free ammunition and tackle, where appropriate, by the continued use of lead ammunition and tackle for hunting and fishing on nearby State and privately held lands and waters. The Service will act to address threats, including from visitor uses, as necessary within our authority, in the interest of our conservation mission even if, and often especially when, human activities outside of refuge borders present similar threats.

We did not make any changes to the rule as a result of these comments.

Comment (11): One comment opposed to non-lead ammunition and tackle requirements maintained that lead ammunition and tackle are made of an inorganic, insoluble form of lead that poses less risk of harm to humans or animals.

Our Response: While inorganic lead presents a low risk of adverse health impacts while it retains its solid, molded form (i.e., anglers face relatively little risk from handling lead tackle), the basis for concern about lead ammunition and tackle is that there are multiple ways for such lead to become harmful to human and wildlife health. Organic lead (i.e., the banned gasoline additive tetramethyl lead) is more dangerous than inorganic lead because it can be absorbed through the skin. Inorganic lead can also have serious impacts in certain forms (e.g., fragments and particles) and once it is inside an animal.

First, as briefly described in our response to Comment (7), lead ammunition, including bonded lead ammunition, fragments when it hits an animal, and this distributes tiny pieces of lead within a wide radius in the soft tissues of the harvested animal (see Trinogga et al. (2019). Fragmentation of lead-free and lead-based hunting rifle bullets under real life hunting conditions in Germany. Amibo 48(9): pp. 1056-1064 (published online March 23, 2019)). These tiny fragments of lead are then consumed by scavenger species eating carcasses or gut piles left behind or humans eating the game meat. In this tiny, fragmented form and acted on by digestive enzymes and acids, the lead derived from ammunition can then shed particles that enter the blood stream and affect systems throughout the body, presenting both chronic and acute health risks.

Second, as briefly described in our response to Comment (7), lead ammunition and tackle that is deposited along shores or at the bottom of bodies of water can be ingested by several species of birds that forage in these locations for pebbles, as pebbles are necessary to break down food through grinding in a special organ of their digestive systems called a gizzard. This grinding process, along with digestive acids and enzymes that accompany food into the gizzard, can easily break down lead ammunition and tackle into fragments and cause it to shed particles, just as the process breaks down the stones and shells the birds intended to ingest. These lead particles are then able to enter the bloodstream and affect systems throughout the body, presenting both chronic and acute health risks.

Third, lead ammunition and tackle that ends up discarded in bodies of water may begin to dissolve and thus introduce lead particles into the water that present both chronic and acute health risks to both aquatic animals living in the water and terrestrial animals drinking from the water. This process requires high acidity in the water that dissolves lead ammunition or tackle, and it is essentially the same concern as the problem of corrosion from acidic water in lead water pipes. These particles of lead dissolved into the water are easily taken up into the bloodstream as they pass through digestive systems.

It is through these known processes that lead ammunition and tackle present a risk, and the best available scientific evidence indicates that these processes are occurring at rates that are causing negative impacts on the health of certain wildlife species. Thus, we seriously consider the impact of inorganic forms of lead, such as lead ammunition and tackle, on wildlife and human health in our regulatory and management processes.

We did not make any changes to the rule as a result of this comment.

Comment (12): One commenter, in objecting to the regulation of lead ammunition and tackle, expressed nonsubstantive concerns centered on their views about the constitutionality and/or legality of the Service creating non-lead ammunition and tackle requirements through our regulations. This comment also offered nonsubstantive concerns about their general projections of impacts to the ammunition and tackle industry and the broader economy.

Our Response: The Service thoroughly addressed these and similar concerns in our final rule for the 2022-2023 station-specific hunting and sport fishing regulations (see 87 FR 57108 at 57117-57119, September 16, 2022). Our position remains the same on these topics in this 2024-2025 rulemaking.

We did not make any changes to the rule as a result of this comment.

Comment (13): A few commenters expressed concerns about the availability of copper for use in ammunition, as copper is one of the alternatives to lead used for non-lead ammunition. The comments expressed concern that due to limited sources of copper and demand for copper for other uses, an increase in demand for copper for ammunition from non-lead ammunition requirements may not be possible or could drive up the cost of non-lead ammunition.

Our Response: These concerns are outside the scope of this rulemaking. It is outside the expertise of the Service and the scope of this rule to speculate about the current or future availability of copper, or how it could affect prices for goods made using copper. There are, however, two things the Service can say on this topic. First, by requiring the use of lead-free ammunition for elk hunting at four refuges and all hunting on one unit of another refuge in this rule, the Service is not specifically requiring the use of copper ammunition. Second, the non-lead ammunition regulations in this rulemaking impact a small portion of the market for ammunition.

We did not make any changes to the rule as a result of these comments.

Comment (14): We also received several comments concerning potential compliance and enforcement challenges related to requirements for hunters to use lead-free ammunition, in particular the requirement specific to the Big Cove Unit of Canaan Valley NWR set forth in this rule. Some of these comments specifically noted the compliance challenge that it may be difficult for hunters to discern when they are on the Big Cove Unit and when they are on another unit of the refuge. Some also expressed concerns related to enforcement with the difficulty of law enforcement to differentiate between lead-free and lead ammunition and with the wording of the lead-free requirement stating that hunters may only “possess” lead-free ammunition when this is applied to big game hunters who choose to carry a sidearm containing lead ammunition for self-defense.

Our Response: The compliance and enforcement challenges identified in these comments are indeed inherent challenges when it comes to lead-free ammunition requirements within a given jurisdictional boundary. On the compliance side, while we recognize that differences in regulations between adjacent units of huntable land present the potential for confusion, this situation occurs in other contexts because of differences in land uses and ownership, and responsible hunters are familiar with the responsibility to be aware of what land they are on and the applicable regulations. Our law enforcement personnel have been appropriately and effectively enforcing similar requirements for years at various individual refuges and already receive applicable training. The requirement will be enforced by Service law enforcement officers in the same manner as similar existing lead-free ammunition requirements elsewhere in the Refuge System, some of which already apply to big game hunting ammunition and some of which apply only to designated units within a given refuge or individual refuges within a complex.

This includes the scenario of a big game hunter carrying a lawful side-arm for self-defense purposes while hunting. The Service's refuge hunting regulations govern the lawful use and possession of firearms and ammunition for hunting, but do not prohibit possession for purposes of self-defense of a handgun, and ammunition it contains, lawfully carried under applicable State law.

We did not make any changes to the rule as a result of these comments.

Comment (15): Several commenters expressed concerns about or objections to the removal of a permit requirement for the existing muzzleloader deer hunt at Fort Niobrara NWR, including concern about hunting pressure reducing the quality of the deer hunt.

Our Response: The Service acknowledges the concern that removing the Fort Niobrara NWR refuge-specific permit requirement may affect the quality of the muzzleloader deer hunt there. We do not anticipate that removing the refuge permit requirement will increase the number of hunters that participate in the Fort Niobrara muzzleloader deer hunt, but we recognize that it could. Our desired result is to reduce an administrative burden for hunters and to more closely align refuge regulations with State regulations. We will continue to monitor muzzleloader deer hunter use at the refuge. If we identify significant negative impacts to habitat, wildlife, or refuge visitors, we will consider further regulatory changes.

We did not make any changes to the rule as a result of these comments.

Comment (16): Two comments expressed objections to the closing of 111 acres that are currently open to hunting at Crab Orchard NWR.

Our Response: This closure of a small area within Crab Orchard NWR is necessary in order to allow for use of the area for other public recreational uses, including camping. In addition to our safety and compatibility considerations, the Service must comply with State laws related to how close hunting may be authorized to the intended camping area. Crab Orchard NWR will still offer hunters more than 44,000 huntable acres.

We did not make any changes to the rule as a result of these comments.

Comment (17): We received multiple comments expressing concern about opportunities for hunting of predator species, including black bear, bobcat, fox, and coyote hunting. Some of these comments also object to the use of dogs and hunting at night when hunting these species.

Our Response: Refuge managers consider predator management decisions on a case-by-case basis. As with all species, a refuge manager makes a decision about managing predator populations, which are included in the category of resident wildlife, including allowing predatory species to be hunted, only after careful examination to ensure the action would comply with relevant laws, policies, and directives.

The Administration Act, as amended, directs the Service to manage refuges for biological integrity, diversity, and environmental health. Predators play a critical role in the integrity, diversity, and overall health of ecosystems, so before allowing predators to be hunted, a refuge manager must ensure that these actions do not threaten the integrity, diversity, or health of the refuge ecosystem.

The refuge manager must also determine that the action is compatible with refuge purposes and the mission of the Refuge System, and in keeping with the refuge's comprehensive conservation plan (CCP) and other step-down plans. In addition, the refuge manager analyzes the impacts of the actions on the environment through the NEPA process and section 7 of the ESA. Therefore, a refuge manager must take many steps to ensure that any opportunity for hunting predators on a refuge meets the Service's applicable laws and policies. All of the same considerations apply where, on a case-by-case basis, we authorize the use of dogs or align with State regulations to allow hunting at night in conjunction with predator hunting or other hunting.

The Administration Act, as amended, also mandates that regulations authorizing hunting or fishing of fish and resident wildlife within the Refuge System shall be, to the extent practicable, consistent with State fish and wildlife laws, regulations, and management plans (16 U.S.C. 668dd(m)). Therefore, all the opportunities for hunting predators in this rule that are intended to bring greater consistency with State fish and wildlife laws, regulations, and management plans are part of realizing the Service's mission. Moreover, these, as with all predator hunting determinations and all hunting and fishing determinations, were only made after careful consideration by the refuge manager to ensure that such actions would not threaten the integrity, diversity, and overall health of the ecosystem and were compatible with both the purpose of the refuge and the mission of the Refuge System.

Finally, both the NEPA process and the rulemaking process provide the opportunity for the public to provide comments and any additional information on the impacts of our actions. We considered the additional information provided from the public on this issue during these public comment periods and determined that they did not affect our initial determinations that the opportunities for hunting predators on specific refuges will have no more than minor impacts on the population health of these species or other wildlife at the local, regional, or national level.

We did not make any changes to the rule as a result of these comments.

Comment (18): We received two comments expressing concern about the Service having adequate funding and staffing, including law enforcement officers, to administer our hunting and fishing opportunities.

Our Response: We appreciate the concern of these commenters for sufficient funding and staffing to safely and effectively administer hunting and fishing activities throughout the Refuge System. Importantly, Service policy (603 FW 2.12.A.(7); see https://www.fws.gov/policy-library/603fw2) requires station managers to determine that adequate resources, including personnel, exist or can be provided by the Service or a partner to properly develop, operate, and maintain the use in a way that will not materially interfere with or detract from fulfillment of the refuge purpose(s) and the Service's mission. If resources are lacking for establishment or continuation of wildlife-dependent recreational uses, the refuge manager will make reasonable efforts to obtain additional resources or outside assistance from States, other public agencies, local communities, and/or private and nonprofit groups before determining that the use is not compatible. For example, when Service law enforcement resources are lacking, we are often able to rely upon State fish and game law-enforcement capacity to assist in enforcement of hunting and fishing regulations. For all refuges opening or expanding hunting or sport fishing in this rule, we have determined that we have adequate resources, including available funds and personnel, to develop, operate, and maintain the proposed hunt programs.

We did not make any changes to the rule as a result of these comments.

Comment (19): We received one comment arguing that we should have prepared an environmental impact statement (EIS) instead of station-specific environmental analyses (EAs) combined with a national cumulative impact report.

Our Response: The Service disagrees with the assertion that we should prepare an EIS before opening or expanding hunting and fishing opportunities on refuges. We completed individual EAs for, or applied categorical exclusions to, each refuge in this rule, in compliance with NEPA, to evaluate the impacts of opening or expanding hunting or fishing opportunities through this rulemaking. These EAs and categorical exclusions underwent regional and national review to address and consider these actions from a local, regional, multi-State, and/or flyway perspective, and to consider the cumulative impacts from this larger geographical context. The 2024-2025 cumulative impacts report concludes, after analyzing the impacts, collectively, of all EAs and categorical exclusions prepared in connection with this rule, that the rule would not have significant impacts at the local, regional, or national level. The commenter who raised these environmental analysis concerns provided no additional information that would change this analysis or our conclusion. As discussed above, we annually conduct management activities on refuges that minimize or offset impacts of hunting and fishing on physical and cultural resources, including establishing designated areas for hunting; restricting levels of use; confining access and travel to designated locations; providing education programs and materials for hunters, anglers, and other users; and conducting law enforcement activities.

In this rulemaking, the Service is expanding opportunities for recreational hunting and fishing. Expanding opportunities does not necessarily result in increased impacts to refuge resources. We anticipate that for some refuges, these expansions will not result in changes in usage of the refuge. In other cases, these expansions may lead to some increase in use of refuges, but these changes would likely be minor. Opening of new refuges or new opportunities may attract people to the refuge, but these hunters and/or anglers were likely already participating elsewhere on State or other Federal lands. Overall, considering the decreasing trends in hunting generally, and trends on refuges specifically, we do not expect this final rule to have a significant impact on the environment. As noted in our cumulative impacts report, hunter participation trends have been generally declining, some refuges attract a very small number of participants, and often participation rates decline over the course of a season.

Finally, a Federal court found that this approach, using a bottom-up analysis to assess the cumulative impact of increased hunting and fishing across the entire Refuge System, was an appropriate way for the Service to analyze the impacts of the rule in compliance with NEPA (see Fund for Animals v. Hall, 777 F. Supp. 2d 92, 105 (D.D.C. 2011)).

We did not make any changes to the rule as a result of this comment.

Comment (20): We received two comments that advocated for requiring some form of monetary payment to the Service for members of the public to participate in recreational uses other than hunting or fishing.

Our Response: Notably, the Service does not uniformly charge entrance or recreation fees, but does for some stations on a case-by-case basis. Any such fee, however, is outside the scope of this rulemaking, which is devoted to regulations for hunting and fishing activities on the Refuge System.

The Service collects entrance and recreation fees under the authorities of the Refuge Revenue Sharing Act of 1935 (16 U.S.C. 715s) and the Federal Lands Recreation Enhancement Act (FLREA; 16 U.S.C. 6801 et seq.). Service policy requires refuge managers to consider two factors in determining fees for any activity: Fair market value and costs involved in providing the use. Because fair market value and refuge costs can differ among localities, there is often a range of different fees for similar activities in different locations. For locations that collect fees under FLREA, public comment periods are required when refuges initiate fees and to change the types and amounts of fees. We encourage public participation in this process.

We did not make any changes to the rule as a result of these comments.

Comment (21): We received one comment that advocated for barring all filming on the Refuge System.

Our Response: The Service already has policies and regulations governing filming on the Refuge System, which are outside the scope of this rulemaking. We will note that filming has the potential to impact wildlife or habitat, particularly larger-scale commercial filming and noncommercial filming involving models, sets, or lighting equipment. Under our current regulations (see 50 CFR 27.71 and 43 CFR part 5), such filming will require a special use permit and the associated evaluation of the potential impacts prior to granting the permit. However, we encourage refuge visitors to use their personal hand-held cameras and cellphones to capture photos video of wildlife and of natural scenery in order to share with friends and loved ones and to preserve memories of their visits.

We did not make any changes to the rule as a result of this comment.

Comment (22): We received one comment requesting an extension of the public comment period through December 3, 2024.

Our Response: We declined to extend the public comment period for the August 2, 2024, proposed rule (89 FR 63139). While extending the comment period was not necessary and extending it by 3 months would not have been feasible, the Service acknowledges that, for this annual rule cycle, the public comment period was shorter than those we provided in the last few years. This was necessitated by consideration of the balance between providing as much opportunity for public comment as possible while keeping delays to fall hunting opportunities to a minimum. We provided 30 days for public comments, and, within that time, we received comments covering the full range of typical topics for this annual rulemaking from a substantial number of the industry, sporting, and conservation organizations that are stakeholders for these regulations. The comments we received on the August 2, 2024, proposed rule are also a representative set of comments from individual members of the public. The Service believes that 30 days was an adequate amount of time for interested parties to provide their comments to us.

We did not make any changes to the rule as a result of this comment.

Changes From the Proposed Rule

As discussed above, under Summary of Comments and Responses, we made no changes in this final rule based on comments we received on the August 2, 2024, proposed rule (89 FR 63139) and NEPA documents for individual refuges.

We did, however, withdraw the proposed authorization of incidental take of feral hog when big game hunting on Green River NWR. As of earlier this year, the Kentucky Department of Fish and Wildlife Resources prohibits hunting of feral hogs, also known as wild pigs, within Kentucky. The Department is pursuing a strategy of eradication through trapping for this invasive species, and we are seeking to ensure our refuge regulations are aligned with this effort. We encourage anyone hunting or otherwise recreating on Green River NWR to report sightings of feral hogs to the Kentucky Department of Fish and Wildlife Resources.

We also made several editorial, nonsubstantive revisions to this rule to improve clarity or to correct cross-references.

Effective Date

We are making this rule effective upon the date of its filing at the Office of the Federal Register (see DATES, above). We provided a 30-day public comment period for the August 2, 2024, proposed rule (89 FR 63139). We have determined that any further delay in implementing these station-specific hunting and sport fishing regulations would not be in the public interest, in that a delay would hinder the effective planning and administration of refuges' hunting and sport fishing programs. This rule does not impact the public generally in terms of requiring lead time for compliance. Rather, it relieves restrictions in that it allows activities on refuges and hatcheries that we would otherwise prohibit. Therefore, we find good cause under 5 U.S.C. 553(d)(3) and 808(1) to make this rule effective upon the date of its filing at the Office of the Federal Register.

Amendments to Existing Regulations

Updates to Hunting and Fishing Opportunities on NWRs

This document codifies in the Code of Federal Regulations all the Service's hunting and/or sport fishing regulations that we are updating since the last time we published a rule amending these regulations (88 FR 74050; October 30, 2023) and that are applicable at Refuge System units previously opened to hunting and/or sport fishing. We adopt these changes to better inform the general public of the regulations at each station, to increase understanding and compliance with these regulations, and to make enforcement of these regulations more efficient. In addition to finding these regulations in 50 CFR parts 32, visitors to our stations may find them reiterated in literature distributed by each station or posted on signs.

Table 1—Changes for 2024-2025 Hunting/Sport Fishing Season
Station | State | Migratory bird hunting | Upland game hunting | Big game hunting | Sport fishing
Bayou Teche NWR | Louisiana | E | Already Open | E | Already Open.
Canaan Valley NWR | West Virginia | E | E | E | Already Open.
Des Lacs NWR | North Dakota | Closed | Already Open | O | Closed.
Green River NWR | Kentucky | N | Closed | N | Closed.
Horicon NWR | Wisconsin | Already Open | Already Open | Already Open | E.
J. Clark Salyer NWR | North Dakota | Already Open | Already Open | O | Already Open.
Lostwood NWR | North Dakota | Closed | Already Open | O | Closed.
Trinity River NWR | Texas | O | Already Open | E | Already Open.
Turnbull NWR | Washington | Already Open | Closed | E | Closed.
Upper Souris NWR | North Dakota | Closed | Already Open | O | Already Open.
Valentine NWR | Nebraska | Already Open | E | Already Open | Already Open.
Waccamaw NWR | South Carolina | E | Already Open | Already Open | Already Open.
Key:
N = New station opened for the first time.
O = Opening (New species and/or new activity on a station previously open to other activities).
E = Expansion (Station is already open to the activity: the final rule adds new lands/waters, modifies areas open to hunting or fishing, extends season dates, adds a targeted hunt, modifies season dates, modifies hunting hours, etc.).

The changes for the 2024-2025 hunting/fishing season noted in the table above are each based on a complete administrative record which, among other detailed documentation, also includes a hunt plan, a compatibility determination (for refuges), and the appropriate NEPA analysis, all of which were the subject of a public review and comment process. These documents are available upon request.

The Service recognizes the possible effects of lead ammunition on refuge resources and human health, and we will continue to evaluate and appropriately regulate the use of lead ammunition and tackle on Service lands and waters. The Service has initiated stakeholder engagement to implement a deliberate, open, and transparent process of evaluating the future of lead use on Service lands and waters, working with our State partners and seeking input and recommendations from the Hunting and Wildlife Conservation Council, other stakeholders, and the public. The best available science, analyzed as part of this rulemaking, indicates that lead ammunition and tackle have negative impacts on both wildlife and human health. Based on the best available science and sound professional judgment, where appropriate, the Service may propose to require the use of non-lead ammunition and tackle on Service lands and waters, as we have previously done in certain areas. While the Service continues to evaluate the future of lead use in hunting and fishing on Service lands and waters, we will work with stakeholders and the public to evaluate lead use through the annual rulemaking process. In the interim, the Service does not intend to allow opportunities increasing or authorizing the new use of lead on Service lands and waters, and this rule is consistent with that approach.

Crab Orchard NWR will close hunting on 111 acres that are currently open to hunting, out of more than 44,000 huntable acres, so that the area can be repurposed for other visitor recreational uses, including camping. Turnbull, Horicon, and Valentine NWRs are expanding hunting and fishing to species where lead-free ammunition or tackle is already required on the refuges. Trinity River, Bayou Teche, Green River, and Waccamaw NWRs will each open or expand archery deer hunting or open or expand migratory bird hunting, both of which are hunting activities that do not involve lead ammunition. Des Lacs, J. Clark Salyer, Lostwood, and Upper Souris NWRs are opening elk hunting that will require the use of lead-free ammunition immediately in the fall 2024 season. In this final rule, Canaan Valley NWR will expand all existing hunting onto the newly acquired Big Cove Unit and require the use of lead-free ammunition immediately for all hunting in the fall 2024 seasons on the Big Cove Unit.

Fish Advisory

For health reasons, anglers should review and follow State-issued consumption advisories before enjoying recreational sport fishing opportunities on Service-managed waters. You can find information about current fish-consumption advisories on the internet at https://www.epa.gov/choose-fish-and-shellfish-wisely.

Required Determinations

Regulatory Planning and Review—Executive Orders 12866, 13563, and 14094

Executive Order 14094 amends and reaffirms the principles of E.O. 12866 and E.O. 13563 and states that regulatory analysis should facilitate agency efforts to develop regulations that serve the public interest, advance statutory objectives, and are consistent with E.O. 12866, E.O. 13563, and E.O. 14094. Regulatory analysis, as practicable and appropriate, shall recognize distributive impacts and equity, to the extent permitted by law. E.O. 13563 emphasizes further that regulations must be based on the best available science and that the rulemaking process must allow for public participation and an open exchange of ideas. We have developed this final rule in a manner consistent with these requirements.

E.O. 12866, as reaffirmed by E.O. 13563 and amended by E.O. 14094, provides that the Office of Information and Regulatory Affairs (OIRA) in the Office of Management and Budget (OMB) will review all significant rules. OIRA has determined that this rule is not significant.

Regulatory Flexibility Act

Under the Regulatory Flexibility Act (RFA; 5 U.S.C. 601 et seq.), as amended by the Small Business Regulatory Enforcement Fairness Act of 1996 (SBREFA; title II of Pub. L. 104-121, March 29, 1996), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This rule opens or expands hunting or fishing on 12 NWRs. As a result, visitor use for wildlife-dependent recreation on these stations will change. If the stations establishing new programs were a pure addition to the current supply of those activities, it would mean an estimated maximum increase of 1,481 user days (one person per day participating in a recreational opportunity; see table 2, below). Because the participation trend is flat in these activities, this increase in supply will most likely be offset by other sites losing participants. Therefore, this is likely to be a substitute site for the activity and not necessarily an increase in participation rates for the activity.

Table 2—Estimated Maximum Change in Recreation Opportunities in 2024-2025
[2023 Dollars in thousands]
Station | Additional hunting days | Additional fishing days | Additional expenditures
Bayou Teche NWR | 40 |  | $1.6
Canaan Valley NWR | 20 |  | 0.8
Des Lacs NWR | 70 |  | 2.8
Green River NWR | 144 |  | 5.7
Horicon NWR |  | 365 | 15.1
J. Clark Salyer NWR | 70 |  | 2.8
Lostwood NWR | 70 |  | 2.8
Trinity River NWR | 300 |  | 11.9
Turnbull NWR | 272 |  | 10.8
Upper Souris NWR | 70 |  | 2.8
Valentine NWR | 60 |  | 2.4
Waccamaw NWR | 0 |  | 0
Total | 1,116 | 365 | 59.5

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System yields approximately $59,000 in recreation-related expenditures (see table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $150,000 (2023 dollars) (Southwick Associates, Inc., 2018).

Since we know that most of the fishing and hunting occurs within 100 miles of a participant's residence, then it is unlikely that most of this spending will be “new” money coming into a local economy; therefore, this spending will be offset with a decrease in some other sector of the local economy. The net gain to the local economies will be no more than $149,000 and likely less. Since 80 percent of the participants travel less than 100 miles to engage in hunting and fishing activities, their spending patterns will not add new money into the local economy and, therefore, the real impact will be on the order of about $30,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $59,500 to be spent in total in the refuges' local economies. The maximum increase will be less than one-tenth of 1 percent for local retail trade spending (see table 3, below). Table 3 does not include entries for those NWRs for which we project no changes in recreation opportunities in 2024-2025; see table 2, above.

Table 3—Comparative Expenditures for Retail Trade Associated With Additional Station Visitation for 2024-2025
[Thousands, 2023 dollars]
Station/county(ies) | Retail trade in 2017 ¹ | Estimated maximum addition from new activities | Addition as % of total | Establishments in 2017 ¹ | Establishments with fewer than 10 employees in 2017
Bayou Teche:
St. Mary Parish, LA | $658,214 | $2 | <0.1 | 186 | 145
Canaan Valley:
Grant, WV | 133,024 | 0 | <0.1 | 42 | 28
Tucker, WV | 79,611 | 0 | <0.1 | 28 | 20
Des Lacs:
Renville, ND | 43,869 | 3 | <0.1 | 13 | 11
Green River:
Henderson, KY | 825,225 | 6 | <0.1 | 150 | 98
Horicon:
Dodge, WI | 1,069,734 | 8 | <0.1 | 232 | 154
Fond du Lac, WI | 2,137,970 | 8 | <0.1 | 344 | 207
J. Clark Salyer:
McHenry, ND | 39,926 | 3 | <0.1 | 19 | 14
Lostwood:
Burke, ND | 38,614 | 1 | <0.1 | 8 | 4
Mountrail, ND | 228,282 | 1 | <0.1 | 47 | 27
Trinity River:
Liberty, TX | 1,047,020 | 12 | <0.1 | 201 | 143
Turnbull:
Spokane, WA | 9,754,429 | 11 | <0.1 | 1,627 | 1,036
Upper Souris:
Renville, ND | 43,869 | 1 | <0.1 | 13 | 11
Ward, ND | 1,844,525 | 1 | <0.1 | 309 | 169
Valentine:
Cherry, NE | 116,107 | 2 | <0.1 | 43 | 30
Waccamaw:
Georgetown, SC | 1,035,984 | 0 | 0 | 287 | 206
¹ U.S. Census Bureau.

With the small change in overall spending anticipated from this rule, it is unlikely that a substantial number of small entities will have more than a small impact from the spending change near the affected stations. Therefore, we certify that this rule will not have a significant economic effect on a substantial number of small entities as defined under the Regulatory Flexibility Act (5 U.S.C. 601 et seq.). A regulatory flexibility analysis is not required. Accordingly, a small entity compliance guide is not required.

Congressional Review Act

The rule is not a major rule under 5 U.S.C. 804(2), the Congressional Review Act. We anticipate no significant employment or small business effects. This rule:

a. Will not have an annual effect on the economy of $100 million or more. The minimal impact will be scattered across the country and will most likely not be significant in any local area.

b. Will not cause a major increase in costs or prices for consumers; individual industries; Federal, State, or local government agencies; or geographic regions. This rule will have only a slight effect on the costs of hunting opportunities for Americans. If the substitute sites are farther from the participants' residences, then an increase in travel costs will occur. The Service does not have information to quantify this change in travel cost but assumes that, since most people travel less than 100 miles to hunt, the increased travel cost will be small. We do not expect this rule to affect the supply or demand for hunting opportunities in the United States, and, therefore, it should not affect prices for hunting equipment and supplies, or the retailers that sell equipment.

c. Will not have significant adverse effects on competition, employment, investment, productivity, innovation, or the ability of U.S.-based enterprises to compete with foreign-based enterprises. This rule represents only a small proportion of recreational spending at NWRs. Therefore, this rule will have no measurable economic effect on the wildlife-dependent industry, which has annual sales of equipment and travel expenditures of $72 billion nationwide.

Unfunded Mandates Reform Act

Since this rule will apply to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule will not have significant takings implications. This rule will affect only visitors at NWRs and describes what they can do while they are on a Service station.

Federalism (E.O. 13132)

As discussed under Regulatory Planning and Review and Unfunded Mandates Reform Act, above, this rule will not have sufficient federalism implications to warrant the preparation of a federalism summary impact statement under E.O. 13132. In preparing this rule, we worked with State governments.

Civil Justice Reform (E.O. 12988)

In accordance with E.O. 12988, the Department of the Interior has determined that this rule will not unduly burden the judicial system and that it meets the requirements of sections 3(a) and 3(b)(2) of the Order.

Energy Supply, Distribution or Use (E.O. 13211)

On May 18, 2001, the President issued E.O. 13211 on regulations that significantly affect energy supply, distribution, or use. E.O. 13211 requires agencies to prepare statements of energy effects when undertaking certain actions. Because this rule will open or expand hunting opportunities on 12 NWRs, it is not a significant regulatory action under E.O. 12866, and we do not expect it to significantly affect energy supplies, distribution, or use. Therefore, this action is not a significant energy action, and no statement of energy effects is required.

Consultation and Coordination With Indian Tribal Governments (E.O. 13175)

In accordance with E.O. 13175, we have evaluated possible effects on federally recognized Indian Tribes and have determined that there are no effects. We coordinate recreational use on NWRs and National Fish Hatcheries with Tribal governments having adjoining or overlapping jurisdiction before we propose new or revised regulations.

Paperwork Reduction Act (PRA)

This rule does not contain any new collections of information that require approval by the Office of Management and Budget (OMB) under the Paperwork Reduction Act of 1995 (44 U.S.C. 3501 et seq.). OMB previously approved the information collection requirements associated with application and reporting requirements associated with hunting and sport fishing and assigned OMB Control Number 1018-0140 (expires 09/30/2025). An agency may not conduct or sponsor, and a person is not required to respond to, a collection of information unless it displays a currently valid OMB control number.

Endangered Species Act Section 7 Consultation

We comply with section 7 of the Endangered Species Act of 1973, as amended (16 U.S.C. 1531 et seq.), when developing comprehensive conservation plans and step-down management plans—which includes hunting and/or fishing plans—for public use of refuges and hatcheries, and prior to implementing any new or revised public recreation program on a station as identified in 50 CFR 26.32. We complied with section 7 for each of the stations affected by this rulemaking.

National Environmental Policy Act

We analyzed this rule in accordance with the criteria of the National Environmental Policy Act of 1969 (NEPA; 42 U.S.C. 4332(C)), 43 CFR part 46, and 516 Departmental Manual (DM) 8.

A categorical exclusion from NEPA documentation applies to publication of amendments to station-specific hunting and fishing regulations because they are technical and procedural in nature, and the environmental effects are too broad, speculative, or conjectural to lend themselves to meaningful analysis (43 CFR 46.210 and 516 DM 8). Concerning the actions that are the subject of this rulemaking, we have complied with NEPA at the project level when developing each package. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations at 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States and Territories listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Christian Myers, Division of Natural Resources and Conservation Planning, National Wildlife Refuge System, is the primary author of this rulemaking document.

Regulation Changes Summary Table

The regulatory amendments set forth below are presented alongside existing station-specific regulations that have not been amended. For a table that provides additional clarity on which specific regulatory provisions have been amended, please see Docket No. FWS-HQ-NWRS-2024-0034 on https://www.regulations.gov for a separate document containing a table that provides additional clarity on which specific regulatory provisions have been amended and how they have been amended.

List of Subjects in 50 CFR Part 32

Fishing, Hunting, Reporting and recordkeeping requirements, Wildlife, Wildlife refuges.

Regulation Promulgation

For the reasons described in the preamble, we amend title 50, chapter I, subchapter C of the Code of Federal Regulations as set forth below:

PART 32—HUNTING AND FISHING

1. The authority citation for part 32 continues to read as follows:

Authority: 5 U.S.C. 301; 16 U.S.C. 460k, 664, 668dd-668ee, and 715i; Pub. L. 115-20, 131 Stat. 86.

2. Amend § 32.7 by revising and republishing paragraph (q) to read as follows:

§ 32.7 What refuge units are open to hunting and/or sport fishing?

* * * * *

(q) Kentucky. (1) Clarks River National Wildlife Refuge.

(2) Green River National Wildlife Refuge.

(3) Ohio River Islands National Wildlife Refuge.

(4) Reelfoot National Wildlife Refuge.

* * * * *

3. Amend § 32.24 by revising and republishing paragraphs (j), (m), and (x) to read as follows:

§ 32.24 California.

* * * * *

(j) Lower Klamath National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older. All hunters age 15 and younger must remain in the immediate presence of an adult (age 18 or older) at all times while in the field.

(ii) Unless otherwise posted, we require advance reservations for the first 2 days of the hunting season. Reservations are obtained through the waterfowl lottery each year.

(iii) Hunters may enter the refuge at 4:30 a.m. unless otherwise posted.

(iv) Shooting hours end at 1 p.m. on all California portions of the refuge with the following exceptions:

(A) The refuge manager may designate up to 6 afternoon special youth, ladies, veteran, or disabled hunter waterfowl hunts per season.

(B) The refuge manager may designate up to 3 days per week of afternoon waterfowl hunting for the general public after December 1.

(v) We prohibit the setting of decoys in retrieving zones.

(vi) Pit-style hunting blinds located in the Stearns units and unit 9D are first-come, first-served. We require you to hunt within a 200-foot (61-meter) radius of the blind.

(2) Upland game hunting. We allow hunting of pheasant on designated areas of the refuge subject to the following conditions:

(i) In the controlled pheasant hunting area, we require a valid Refuge Recreation Pass (available electronically or in person at the refuge office) for all hunters age 16 or older.

(ii) All hunters age 15 or younger must remain in the immediate presence of an adult (age 18 or older) at all times while in the field.

(3)-(4) [Reserved]

* * * * *

(m) Modoc National Wildlife Refuge—(1) Migratory game bird hunting. We allow hunting of goose, duck, coot, moorhen, and snipe on designated areas of the refuge subject to the following conditions:

(i) On the opening weekend of the hunting season, hunters must possess and carry a refuge permit (FWS Form 3-2439, Hunt Application/Permit—National Wildlife Refuge System) issued through random drawing to hunters with advance reservations only.

(ii) After the opening weekend of the hunting season, we only allow hunting on Tuesdays, Thursdays, and Saturdays. Hunters must check-in and out of the refuge by using self-service permits (FWS Form 3-2405, Self-Clearing Check-in/out Permit). Hunters must completely fill out the “Refuge Hunt Permit” portion of the permit and deposit it in the drop box prior to hunting. Hunters must complete and display the “Daily Vehicle Permit” in the windshield of the hunter's vehicle prior to hunting. The hunter must possess and carry the “Record of Kill” and “Waterfowl Harvest Statistics” portions of the permit while on the refuge and turn them in prior to exiting the hunting area.

(iii) In the designated spaced blind area, you must remain within the blind assigned to you.

(iv) All hunters age 15 and younger must remain in the immediate presence of an adult (age 18 or older) at all times while in the field.

(v) You may not possess more than 25 shot shells while in the field once you have left your assigned parking lot or boat launch.

(vi) You may only use portable blinds in the free-roam hunting areas.

(vii) You must remove all blinds, decoys, shell casings, other personal equipment, and refuse from the refuge at the end of each day (see §§ 27.93 and 27.94 of this chapter).

(viii) Hunters must enter and exit the hunting area from the three designated hunt parking lots, which we open 1½ hours before legal shooting time and close 1 hour after legal shooting time each hunt day.

(ix) We only allow walk-in access to the hunt area by foot and nonmotorized cart.

(2) Upland game hunting. We allow hunting of pheasant on designated areas of the refuge subject to the following conditions:

(i) We limit hunting to junior hunters possessing a valid State Junior Hunting License and refuge Junior Pheasant Hunt Permit (FWS Form 3-2439, Hunt Application/Permit—National Wildlife Refuge System).

(ii) All hunters age 15 and younger must remain in the immediate presence of an adult (age 18 or older) at all times while in the field.

(3) [Reserved]

(4) Sport fishing. We allow sport fishing only on Dorris Reservoir subject to the following conditions:

(i) We prohibit fishing from October 1 to January 31.

(ii) We allow fishing only from legal sunrise to legal sunset.

(iii) We allow only walk-in access to Dorris Reservoir from February 1 through March 31.

(iv) We allow use of boats for fishing on Dorris Reservoir only from April 1 through September 30.

* * * * *

(x) Tule Lake National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older.

(ii) All hunters age 15 or younger must remain in the immediate presence of an adult (age 18 or older) at all times while in the field.

(iii) Unless otherwise posted, we require advance reservations for the first 2 days of the hunting season. You may obtain a reservation through the waterfowl lottery each year.

(iv) Hunters may enter the refuge at 4:30 a.m. unless otherwise posted.

(v) Shooting hours end at 1 p.m. on all portions of the refuge with the following exceptions:

(A) The refuge manager may designate up to 6 afternoon special youth, ladies, veteran, or disabled hunter waterfowl hunts per season.

(B) The refuge manager may designate up to 3 days per week of afternoon waterfowl hunting for the general public after December 1.

(vi) You select blind sites by lottery at the beginning of each hunt day. You may shoot only from within your assigned blind site.

(vii) We prohibit the setting of decoys in retrieving zones.

(viii) We prohibit air-thrust and inboard water-thrust boats while hunting. We prohibit the use of all-terrain amphibious or utility-type vehicles (UTVs) in wetland units.

(2) Upland game hunting. We allow hunting of pheasant on designated areas of the refuge subject to the following conditions:

(i) In the controlled pheasant hunting area, we require a valid Refuge Recreation Pass (available electronically or in person at the refuge office) for all hunters age 16 or older.

(ii) All hunters age 15 or younger must remain in the immediate presence of an adult (age 18 or older) at all times while in the field.

(3)-(4) [Reserved]

4. Amend § 32.36 by redesignating paragraphs (b) and (c) as (c) and (d), respectively; and adding a new paragraph (b).

The addition reads as follows:

§ 32.36 Kentucky.

* * * * *

(b) Green River National Wildlife Refuge—(1) Migratory game bird hunting. We allow hunting of duck, goose, coot, merganser, teal, and dove on designated areas of the refuge subject to the following conditions:

(i) Each hunter age 12 and older must possess and carry a signed refuge hunting brochure (FWS Form 3-2439, Hunt Application/Permit—National Wildlife Refuge System) while hunting on the refuge.

(ii) All hunters age 15 or younger must be supervised by an adult age 21 or older and must remain in sight of and normal voice contact with the adult. The adult may supervise no more than two youths.

(iii) We prohibit hunting within 100 yards (91 meters) of a residence, graveled road, or hiking trail managed by the Service as part of Green River NWR.

(iv) We prohibit the use of trail cameras.

(v) We allow the use of boats operated only by manual power or an electric trolling motor for hunters to access the refuge. We prohibit the use of internal combustion motors, personal watercraft (e.g., jet skis), airboats, and hovercraft on waters owned and managed by Green River NWR.

(vi) We allow the use of bikes, including e-bikes, for hunters to access the refuge along designated routes only (graveled and paved roads, and established trails) managed by the Service as part of Green River NWR. We prohibit the use of internal combustion motors on lands owned and managed by Green River NWR.

(vii) We allow the use of off-road or all-terrain vehicles (e.g., ATVs/UTVs) only for mobility-impaired hunters who, while hunting on the refuge, possess and carry a valid General Activities Special Use Permit (FWS Form 3-1383-G) approved by the refuge manager.

(viii) We prohibit marking or flagging any tree or other refuge feature with non-biodegradable reflectors, paint, flagging, or other substances.

(ix) Access to open hunting areas of the refuge is from 2 hours before legal sunrise to 2 hours after legal sunset.

(x) We prohibit the killing or wounding of a game animal and then intentionally or knowingly failing to make a reasonable effort to retrieve and include it in the hunter's bag limit.

(xi) We allow duck, goose, coot, wood duck, teal, and merganser hunting from ½ hour before legal sunrise until 12 p.m. (noon). We allow dove hunting according to State shooting hours.

(xii) We allow the use of dogs for migratory game bird hunting. Dog owners and handlers must have a collar on each dog with the owner's contact information (FWS Form 3-2439).

(xiii) For migratory game bird hunting, you must remove all decoys, blinds, and hunting equipment at the end of each day's hunt (see § 27.93 of this chapter).

(xiv) For youth, seniors, and disabled hunters, as defined by the State, the Horseshoe Bend Unit will be open to waterfowl hunting during the months of December and January of the Statewide waterfowl season, and during the additional Statewide veterans and youth hunt dates in February.

(xv) We prohibit waterfowl hunting during any Statewide seasons prior to December.

(xvi) We prohibit all entry to the Tscharner East section of the Bluff Unit from November 1 through March 31.

(xvii) The big game quota hunt in the month of November of the Statewide white-tailed deer season is open only to holders of a big game quota permit (FWS Form 3-2439, Hunt Application/Permit—National Wildlife Refuge System). During that hunt, the Tscharner West section of the Bluff Unit and the Horseshoe Bend Unit are closed to all non-selected hunters and the general public.

(2) [Reserved]

(3) Big game hunting. We allow only archery and crossbow hunting of white-tailed deer and turkey on designated areas of the refuge subject to the following conditions:

(i) The conditions set forth at paragraphs (b)(1)(i), (iii) through (x), (xvi), and (xvii) of this section apply.

(ii) Hunters age 15 and younger must be supervised by an adult age 21 or older and must remain in sight of and normal voice contact with the adult. The adult may supervise no more than one youth.

(iii) We allow white-tailed deer and turkey hunting according to State shooting hours.

(iv) You must use safety belts at all times when occupying tree stands.

(v) You must remove all tree stands (portable and climbing) and ground blinds by legal sunset of each day's hunt.

(vi) You may use no more than one stand or blind per hunter.

(vii) The big game quota permit (FWS Form 3-2439, Hunt Application/Permit—National Wildlife Refuge System) is a limited entry permit, is zone-specific, and is nontransferable.

(viii) During the big game quota hunt, we allow only hunters possessing a valid big game quota permit (FWS Form 3-2439, Hunt Application/Permit—National Wildlife Refuge System) on the refuge and only for the purposes of deer and turkey hunting.

(ix) For the drawn holders of a big game quota permit (FWS Form 3-2439, Hunt Application/Permit—National Wildlife Refuge System), the Horseshoe Bend Unit and Tscharner West section of the Bluff Unit will be open, up to 21 days, during the month of November of the Statewide season.

(x) For youth, seniors, and disabled hunters, as defined by the State, the Horseshoe Bend Unit and Tscharner West section of the Bluff Unit will be open to archery and crossbow hunting of deer and turkey during the months of September and October in accordance with State season dates.

(xi) For youth, as defined by the State, the Horseshoe Bend Unit and Tscharner West section of the Bluff Unit will be open to archery and crossbow hunting of turkey during the months of April and May in accordance with State season dates.

(4) [Reserved]

* * * * *

5. Amend § 32.37 by revising and republishing paragraphs (d), (e), and (m) to read as follows:

§ 32.37 Louisiana.

* * * * *

(d) Bayou Teche National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We prohibit hunting or discharge of firearms (see § 27.42 of this chapter) within 500 feet (152 meters (m)) of any residence or oil and gas infrastructure, or within 200 feet (61 m) of any road, railroad, levee, water control structure, designated public use trail, designated parking area, or other designated public use facility.

(iii) All youth hunters age 15 and younger must be supervised by an adult during all hunts. One adult may supervise up to two youths during small game and migratory game bird hunts, but may supervise only one youth during big game hunts. The supervising adult must maintain visual and voice contact with the youth at all times. Adult guardians are responsible for ensuring that youth hunters do not violate refuge rules.

(iv) We require waterfowl and gallinule hunters to remove all portable blinds and decoys from the refuge by 2 p.m. each day (see §§ 27.93 and 27.94 of this chapter).

(v) Migratory bird hunters are only allowed to enter the refuge after 4 a.m.

(vi) We allow waterfowl hunting daily until 2 p.m. during the State regular season, State teal season, and State youth and veteran waterfowl seasons. We allow gallinule, snipe, and rail hunting until 2 p.m.

(vii) When hunting migratory game birds, you may only use dogs to locate, point, and retrieve game.

(viii) We allow only the use of reflective tacks as marking devices.

(ix) We only allow the incidental take of nutria with approved shot and weapons during any open waterfowl season on the refuge. We allow the incidental take of raccoon, feral hog, armadillo, opossum, and coyote with approved shot and weapons during any open season on the refuge.

(2) Upland game hunting. We allow hunting of squirrel and rabbit, and the incidental take of nutria, coyote, raccoon, armadillo, and opossum, on designated areas of the refuge subject to the following conditions:

(i) We only allow hunting from the start of the State squirrel and rabbit seasons until the last day of State waterfowl season for the State Waterfowl Zone in which you are hunting.

(ii) We prohibit upland game hunting on days corresponding with refuge deer gun hunts.

(iii) Hunters must leave the refuge no later than 2 hours after legal sunset.

(iv) When hunting, you must possess only shot size 4 or smaller or 0.22 caliber rimfire rifles or smaller. We allow the use of air rifles.

(v) The conditions set forth at paragraphs (d)(1)(i) through (iii), (viii), and (ix) of this section apply.

(vi) The conditions set forth at paragraphs (d)(2)(i) through (iv) of this section do not apply to upland game hunting on the Mitigation Units.

(3) Big game hunting. We allow the hunting of white-tailed deer, and the incidental take of feral hog, on designated areas of the refuge subject to the following conditions:

(i) We allow hunting of deer only with firearms (see § 27.42 of this chapter) during 5 specific days during October and November. A youth gun hunt will occur during the last weekend of October, on both Saturday and Sunday. The general gun hunt will occur during the final full weekend in November over 3 days: the Friday immediately before the weekend, Saturday, and Sunday.

(ii) We allow archery deer hunting according to the State of Louisiana archery season. We close refuge archery hunting during refuge deer gun hunts.

(iii) We allow each hunter to possess only one deer per day; the deer may be a buck or a doe.

(iv) Hunters may use only portable deer stands. Hunters may erect deer stands no earlier than 48 hours before the deer archery season and must remove them from the refuge within 48 hours after the season closes (see § 27.93 of this chapter). Hunters may place only one deer stand on the refuge. Deer stands must have the owner's State hunting license/sportsman's identification number clearly printed on the stand.

(v) The conditions set forth at paragraphs (d)(1)(i) through (iii), (viii), and (ix), and (d)(2)(iii) of this section apply.

(vi) The condition set forth at paragraph (d)(3)(i) of this section does not apply to big game hunting on the Mitigation Units.

(vii) We prohibit the use of deer decoys.

(viii) We prohibit organized deer drives. We define a “deer drive” as an organized or planned effort to pursue, drive, chase, or otherwise frighten or cause deer to move in the direction of any person(s) who is part of the organized or planned hunt and known to be waiting for the deer.

(ix) Deer hunters must display State Wildlife Management Area (WMA) hunter-orange or blaze-pink (as governed by State WMA regulations).

(4) Sport fishing. We allow sport fishing in all refuge waters subject to the following conditions:

(i) We prohibit the use of unattended nets, traps, or lines (trot, jug, bush, etc.).

(ii) The condition set forth at paragraph (d)(1)(i) of this section applies.

(iii) The refuge is only open to recreational finfishing and shellfishing from legal sunrise to legal sunset.

(e) Big Branch Marsh National Wildlife Refuge—

(1) Migratory game bird hunting. We allow hunting of duck, merganser, teal, coot, light and dark goose, snipe, rail, gallinule, dove, and woodcock on designated areas of the refuge subject to the following conditions:

(i) Each person age 18 and older must possess and carry a valid, signed refuge user brochure while on the refuge.

(ii) We allow waterfowl, snipe, rail, gallinule, dove, and goose hunting on Wednesdays, Thursdays, Saturdays, and Sundays from ½ hour before legal sunrise until 2 p.m., including waterfowl hunting during the State teal season and State youth and veterans waterfowl seasons. We only allow hunting of woodcock until 2 p.m.

(iii) We allow light goose hunting for that part of the season that extends beyond the regular duck season from ½ hour before legal sunrise until 2 p.m.

(iv) We allow only temporary blinds, and hunters must remove blinds and decoys by 2 p.m. each day (see § 27.93 of this chapter).

(v) All youth hunters age 15 and younger must be supervised by an adult during all hunts. One adult may supervise up to two youths during small game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence adjacent to the refuge or oil and gas infrastructure on the refuge, or within 200 feet (61 m) from the center of any road, railroad, levee, water control structure, designated public use maintained trail, designated parking area, or other designated public use facility.

(vii) We allow migratory bird hunters to enter the refuge no earlier than 4 a.m., and all hunters must exit the refuge no later than 2 hours after legal sunset.

(viii) We allow only reflective tacks as trail markers on the refuge.

(ix) We allow the incidental take of raccoon, feral hog, armadillo, opossum, and coyote with approved shot and weapons allowed during any open season on the refuge.

(x) We only allow the incidental take of nutria with approved shot and weapons during any open waterfowl (duck, teal, merganser, light and dark goose, and coot) season on the refuge.

(xi) We prohibit hunters and anglers from utilizing air boats, air thrust boats, mud boats, aircraft, and air-cooled propulsion engines on the refuge.

(2) Upland game hunting. We allow hunting of squirrel, rabbit, and quail, and the incidental take of nutria, coyote, raccoon, armadillo, and opossum, on designated areas of the refuge subject to the following conditions:

(i) When hunting, you must possess only shot size 4 or smaller, or 0.22 caliber rim-fire rifles or smaller. We allow the use of air rifles.

(ii) When hunting squirrel and rabbit, and for the incidental take of raccoon, we allow the use of dogs only after the close of the State archery deer season. When hunting quail, you may only use dogs to locate, point, and retrieve.

(iii) The conditions set forth at paragraphs (e)(1)(i), (v), (vi), and (viii) through (xi) of this section apply.

(iv) During the dog season for squirrel and rabbit, all hunters, including archers (while on the ground), except waterfowl hunters, must wear a minimum of a cap or hat that is hunter orange, blaze pink, or other such color as governed by State regulations.

(v) We only allow hunting of quail until 2 p.m.

(3) Big game hunting. We allow hunting of white-tailed deer, and the incidental take of feral hog, on designated areas of the refuge subject to the following conditions:

(i) We are open only during the State season for archery hunting of deer.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter). We allow only one deer stand per hunter on the refuge. Deer stands must have the owner's State license/sportsmen's identification number clearly printed on the stand. We prohibit hunting stands on trees painted with white bands.

(iv) Deer hunters must display State Wildlife Management Area (WMA) hunter-orange or blaze-pink (as governed by State WMA regulations) while on the ground.

(v) The conditions set forth at paragraphs (e)(1)(i), (v), (vi), and (viii) through (xi) of this section apply.

(vi) We prohibit the use of deer decoys.

(4) Sport fishing. We allow recreational finfishing and shellfishing on designated areas of the refuge subject to the following conditions:

(i) You may only fish from legal sunrise until legal sunset, except we allow night fishing from the bank and pier on Lake Road.

(ii) You must only use rod and reel or pole and line while finfishing.

(iii) You must attend to any fishing, crabbing, and crawfishing equipment at all times.

(iv) The conditions set forth at paragraphs (e)(1)(i) and (xi) of this section apply.

* * * * *

(m) Delta National Wildlife Refuge—(1) Migratory game bird hunting. We allow hunting of duck, merganser, teal, light and dark goose, dove, snipe, rail, gallinule, and coot on designated areas of the refuge subject to the following conditions:

(i) Each person age 18 and older must possess and carry a valid, signed refuge user brochure while on the refuge.

(ii) We allow migratory bird hunting on Wednesdays, Thursdays, Saturdays, and Sundays from ½ hour before legal sunrise until 2 p.m. during the State seasons, including the regular waterfowl season, the State teal season, State youth waterfowl season, State veterans waterfowl season, and State light goose special conservation season.

(iii) We only allow temporary blinds. You must remove both blinds and decoys by 2 p.m. each day (see § 27.93 of this chapter).

(iv) When hunting migratory game birds, you may only use dogs to locate, point, and retrieve game.

(v) We prohibit discharge of firearms (see § 27.42 of this chapter) within 500 feet (152 meters (m)) of any residence or oil and gas infrastructure, or within 200 feet (61 m) of any road, railroad, levee, water control structure, designated public use trail, designated parking area, or other designated public use facilities.

(vi) All youth hunters age 15 and younger must be supervised by an adult during all hunts. One adult may supervise up to two youths during upland game and migratory game bird hunts, but may supervise only one youth during big game hunts. The supervising adult must maintain visual and voice contact with the youth at all times.

(vii) Migratory bird hunters may enter the refuge no earlier than 4 a.m., and all hunters must exit the refuge no later than 2 hours after legal sunset.

(viii) We allow the incidental take of raccoon, feral hog, armadillo, opossum, and coyote with approved shot and weapons allowed during any open season on the refuge.

(ix) We only allow the incidental take of nutria with approved shot and weapons during any open waterfowl season on the refuge.

(x) We allow only the use of reflective tacks as marking devices.

(xi) We close all refuge lands between Raphael Pass and Main Pass to public entry, including hunting and fishing, from November 1 through the end of February; year-round access is only allowed in Main, Raphael, Octave, Women, and Flatboat passes.

(xii) We prohibit hunters and anglers from utilizing air boats, air thrust boats, mud boats, aircraft, and air-cooled propulsion engines on the refuge.

(2) Upland game hunting. We allow hunting of rabbit, and the incidental take of nutria, coyote, raccoon, armadillo, and opossum, on designated areas of the refuge subject to the following conditions:

(i) The refuge rabbit season opens the day after the State duck season closes and continues through the remainder of the State rabbit season.

(ii) We restrict hunting to shotgun only.

(iii) We allow the use of dogs when rabbit hunting.

(iv) We prohibit upland game hunting on days corresponding with refuge deer gun hunts.

(v) The conditions set forth at paragraphs (m)(1)(i), (v) through (viii), (xi), and (xii) of this section apply.

(3) Big game hunting. We allow hunting of white-tailed deer on designated areas of the refuge subject to the following conditions:

(i) The conditions set forth at paragraphs (m)(1)(i) and (v) through (xii) of this section apply.

(ii) We allow archery deer hunting, bucks only, from October 1 through 15. We allow either-sex archery deer hunting from October 16 through 31, and from the day after the close of the State duck season through the end of the State deer archery season.

(iii) We allow placement of temporary deer stands up to 48 hours prior to the start of deer archery season. Hunters must remove all deer stands within 48 hours after the archery deer season closes (see § 27.93 of this chapter). We allow only one deer stand per hunter on the refuge. Deer stands must have the owner's State license/sportsmen's identification number clearly printed on the stand.

(iv) We prohibit organized deer drives. We define a “deer drive” as an organized or planned effort to pursue, drive, chase, or otherwise frighten or cause deer to move in the direction of any person(s) who is part of the organized or planned hunt and known to be waiting for the deer.

(v) We prohibit the use of deer decoys.

(vi) We allow shotgun hunting of deer on the Saturday and Sunday during the first split of the regular waterfowl season.

(vii) Deer hunters must display State Wildlife Management Area (WMA) hunter-orange or blaze-pink (as governed by State WMA regulations).

(4) Sport fishing. We allow recreational finfishing and shellfishing on designated areas of the refuge subject to the following conditions:

(i) We only allow sport finfishing and shellfishing from ½ hour before legal sunrise until ½ hour after legal sunset. During the State waterfowl hunting seasons, we only allow sport finfishing and shellfishing from 2 p.m. until ½ hour after legal sunset.

(ii) We prohibit the use of trotlines, limblines, slat traps, jug lines, nets, or alligator lines.

(iii) The conditions set forth at paragraphs (m)(1)(i), (xi), and (xii) of this section apply.

* * * * *

6. Amend § 32.41 by revising and republishing paragraph (f) to read as follows:

§ 32.41 Michigan.

* * * * *

(f) Shiawassee National Wildlife Refuge—(1) Migratory game bird hunting. We allow hunting of waterfowl (duck and goose), American woodcock, American crow, American coot, common gallinule, sora, Virginia rail, and Wilson's snipe on designated areas of the refuge subject to the following conditions:

(i) You must possess and carry a refuge check-in card (FWS Form 3-2405, Self-Clearing Check-in Permit).

(ii) We allow waterfowl hunting on Saturdays, Sundays, Tuesdays, and Thursdays during the regular goose season after September 30.

(iii) We allow hunter access to the refuge 2 hours before legal shooting time to 2 hours after legal shooting time.

(iv) You may possess no more than 25 shotgun shells while hunting in the field.

(v) We allow the use of dogs while hunting, provided the dog is under the immediate control of the hunter at all times.

(vi) We allow the take of feral hogs incidental to other lawful hunting using legal methods of take.

(2) Upland game hunting. We allow hunting of turkey, small game (eastern fox squirrel, eastern cottontail, and ring-necked pheasant), and furbearers (raccoon, coyote, and red fox) on designated areas of the refuge subject to the following conditions:

(i) The conditions set forth at paragraphs (f)(1)(iii) and (vi) of this section apply, except we allow hunter access to the refuge for furbearer hunting from ½ hour before legal sunrise to ½ hour after legal sunset.

(ii) You may only hunt turkey during the spring season.

(iii) We allow dogs for hunting. Raccoon hunting dogs must wear global positioning system (GPS) or radio collars.

(3) Big game hunting. We allow hunting of white-tailed deer on designated areas of the refuge subject to the following conditions:

(i) The conditions set forth at paragraphs (f)(1)(iii) and (vi) of this section apply.

(ii) You must possess and carry a refuge permit (State-issued permit).

(4) Sport fishing. We allow sport fishing on designated areas of the refuge subject to the following conditions:

(i) We allow fishing by boat in navigable waterways but not within any managed refuge units.

(ii) We allow bank fishing from legal sunrise to legal sunset only at designated sites along the Tittabawassee and Cass Rivers.

7. Amend § 32.42 by revising and republishing paragraph (a) to read as follows:

§ 32.42 Minnesota.

* * * * *

(a) Agassiz National Wildlife Refuge—(1) Migratory game bird hunting. We allow youth waterfowl hunting on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, cameras, and other personal property brought onto the refuge at the end of each day (see §§ 27.93 and 27.94 of this chapter).

(iv) We close the refuge from 7 p.m. to 5:30 a.m.

(v) We allow the use of motorless boats for hunting.

(vi) We only allow waterfowl hunting during the State's youth waterfowl season.

(2) Upland game hunting. We allow hunting of ruffed grouse and sharp-tailed grouse on designated areas of the refuge subject to the following conditions:

(i) The conditions set forth at paragraphs (a)(1)(i) through (v) of this section apply.

(ii) We only allow hunting from the opening of the State's deer firearms season to the close of the State's ruffed grouse and sharp-tailed grouse seasons, respectively.

(3) Big game hunting. We allow hunting of white-tailed deer and moose on designated areas of the refuge subject to the following conditions:

(i) The conditions set forth at paragraphs (a)(1)(i), (iv), and (v) of this section apply.

(ii) We prohibit shooting on, from, over, across, or within 30 feet (9 meters) of a roadway open to motorized public vehicle transportation at a big game animal or a decoy of a big game animal.

(iii) We only allow archery hunting from the start of the State's deer firearms season, and close as governed by the State's archery deer season.

(iv) You must remove all boats, decoys, cameras, and other personal property brought onto the refuge at the end of each day (see §§ 27.93 and 27.94 of this chapter).

(v) We allow only portable tree stands; portable, elevated hunting platforms not attached to trees; and portable ground blinds that can be hand-carried into the hunting area.

(vi) You may place your tree stand(s), elevated platform(s), and/or ground blind(s) on the refuge only during your designated licensed season. You must remove these stands/blinds by the end of your designated licensed season (see § 27.93 of this chapter). Unoccupied stands/blinds may be used by anyone.

(vii) We allow only two stands/blinds per hunter on the refuge. You must clearly label the stands/blinds with your State hunting license number.

(viii) We prohibit the use of nails, wire, screws, or bolts to attach a stand to a tree.

(ix) We prohibit hunting from a tree into which a metal object has been driven to support a hunter.

(4) [Reserved]

* * * * *

8. Amend § 32.45 by revising and republishing paragraph (o) to read as follows:

§ 32.45 Montana.

* * * * *

(o) Lost Trail National Wildlife Refuge—(1) [Reserved]

(2) Upland game hunting. We allow hunting of turkey and mountain grouse on designated areas of the refuge subject to the following conditions:

(i) We allow use of riding or pack stock on designated access routes through the refuge to access off-refuge lands as identified in the public use leaflet.

(ii) We prohibit retrieval of game in areas closed to hunting without a refuge retrieval permit.

(iii) We allow portable or temporary blinds and tree stands.

(iv) You may only use or possess nontoxic shot shells while in the field (see § 32.2(k)).

(3) Big game hunting. We allow hunting of elk, white-tailed deer, and mule deer on designated areas of the refuge subject to the following conditions:

(i) The conditions set forth at paragraphs (o)(2)(i) through (iii) of this section apply.

(ii) Persons assisting disabled hunters must not be afield with a hunting firearm, bow, or other hunting device.

(4) [Reserved]

* * * * *

9. Amend § 32.46 by revising and republishing paragraph (c) to read as follows:

§ 32.46 Nebraska.

* * * * *

(c) Fort Niobrara National Wildlife Refuge—(1) Migratory game bird hunting. We allow hunting of coot, crow, dark goose, dove, duck, light goose, rail, snipe, teal, and woodcock on designated areas of the refuge subject to the following conditions:

(i) Hunters and anglers may access the refuge from 2 hours before legal sunrise until 2 hours after legal sunset.

(ii) We allow access from designated areas of the refuge.

(iii) You must remove all blinds and decoys at the conclusion of each day's hunt (see § 27.93 of this chapter).

(iv) We allow the use of dogs when hunting August 1 through April 30.

(2) Upland game hunting. We allow hunting of badger, bobcat, coyote, fox, long-tailed weasel, mink, opossum, prairie dog, porcupine, rabbit, hare, raccoon, skunk, squirrel, woodchuck, State-defined furbearers, greater prairie chicken, grouse, partridge, pheasant, quail, and turkey on designated areas of the refuge subject to the following conditions:

(i) The conditions set forth at paragraphs (c)(1)(i), (ii), and (iv) of this section apply.

(ii) We allow hunting with muzzleloader, archery, shotgun, and falconry.

(iii) You may only possess nontoxic shot when hunting turkey (see § 32.2(k)).

(iv) Shooting hours for coyote, prairie dog, porcupine, woodchuck, and State-defined furbearers are ½ hour before legal sunrise to ½ hour after legal sunset.

(3) Big game hunting. We allow hunting of deer, elk, and pronghorn antelope on designated areas of the refuge subject to the following conditions:

(i) The conditions set forth at paragraphs (c)(1)(i) and (ii) of this section apply.

(ii) We allow hunting only with muzzleloader and archery equipment.

(iii) We allow portable tree stands and ground blinds to be used from August 16 through January 31.

(4) Sport fishing. We allow fishing on Minnechaduza Creek and on the Niobrara River, downstream from the Cornell Dam, subject to the following conditions:

(i) The conditions set forth at paragraphs (c)(1)(i) and (ii) of this section apply.

(ii) We prohibit the use of limb or set lines.

(iii) We prohibit the take of baitfish, reptiles, and amphibians.

(iv) We prohibit use or possession of alcoholic beverages while fishing on refuge lands and waters.

* * * * *

10. Amend § 32.53 by revising and republishing paragraphs (q), (w), (oo), and (kkk) to read as follows:

§ 32.53 North Dakota.

* * * * *

(q) Des Lacs National Wildlife Refuge—(1) [Reserved]

(2) Upland game hunting. We allow hunting of fox, sharp-tailed grouse, Hungarian partridge, turkey, and ring-necked pheasant on designated areas of the refuge subject to the following conditions:

(i) We open for upland game bird hunting on the day following the close of the regular deer gun season through the end of the State season.

(ii) We allow the use of hunting dogs for retrieval of upland game.

(iii) We allow fox hunting from the day following the regular firearm deer season until March 31.

(iv) We prohibit accessing refuge lands from refuge waters.

(3) Big game hunting. We allow deer, elk, and moose hunting on designated areas of the refuge subject to the following conditions:

(i) We only allow the use of portable tree stands and ground blinds. We prohibit leaving stands and blinds overnight on the refuge (see § 27.93 of this chapter).

(ii) We prohibit entry to the refuge before 12 p.m. (noon) on the first day of the respective bow, gun, or muzzleloader deer hunting seasons.

(iii) The condition set forth at paragraph (q)(2)(iv) of this section applies.

(iv) You may only possess nontoxic ammunition when hunting elk (see § 32.2(k)).

(4) [Reserved]

* * * * *

(w) J. Clark Salyer National Wildlife Refuge—(1) Migratory game bird hunting. We allow hunting of goose, duck, and coot on designated areas of the refuge subject to the following condition: We allow the use of dogs for hunting and retrieving game birds.

(2) Upland game hunting. We allow hunting of ruffed and sharp-tailed grouse, Hungarian partridge, turkey, ring-necked pheasant, and fox on designated areas of the refuge subject to the following conditions:

(i) We open the refuge to hunting for sharp-tailed grouse, Hungarian partridge, and ring-necked pheasant north of the Willow-Upham road on the day following the close of the regular firearm deer season.

(ii) We open the refuge to fox hunting on the day following the close of the regular firearm deer season. Fox hunting on the refuge closes March 31.

(iii) Hunters may possess only approved nontoxic shot (see § 32.2(k)) for all upland game hunting, including turkey.

(3) Big game hunting. We allow hunting of deer, elk, and moose on designated areas of the refuge subject to the following conditions:

(i) You must possess and carry a refuge permit to hunt antlered deer on the refuge outside the nine public hunting areas during the regular firearms season.

(ii) We prohibit entry to the refuge before 12 p.m. (noon) on the first day of the respective bow, gun, or muzzleloader deer hunting seasons. You may access refuge roads open to the public before 12 p.m. (noon).

(iii) You may only possess nontoxic ammunition when hunting elk (see § 32.2(k)).

(4) Sport fishing. We allow sport fishing on designated areas of the refuge subject to the following conditions:

(i) We allow boat fishing from May 1 through September 30.

(ii) We allow ice fishing and dark house spearfishing. We allow snowmobiles, all-terrain vehicles (ATVs), utility terrain vehicles (UTVs), motor vehicles, and fish houses on the ice as conditions allow.

* * * * *

(oo) Lostwood National Wildlife Refuge—(1) [Reserved]

(2) Upland game hunting. We allow hunting of sharp-tailed grouse, Hungarian partridge, and ring-necked pheasant on designated areas of the refuge subject to the following condition: We allow the use of dogs to retrieve upland game.

(3) Big game hunting. We allow deer, elk, and moose hunting on designated areas of the refuge subject to the following conditions:

(i) We prohibit entry to the refuge before 12 p.m. (noon) on the first day of the respective archery, gun, or muzzleloader deer hunting season.

(ii) You may only possess nontoxic ammunition when hunting elk (see § 32.2(k)).

(4) [Reserved]

* * * * *

(kkk) Upper Souris National Wildlife Refuge—(1) [Reserved]

(2) Upland game hunting. We allow hunting of wild turkey, sharp-tailed grouse, Hungarian partridge, and pheasant on designated areas of the refuge subject to the following conditions:

(i) We allow the use of dogs for hunting and retrieving of upland game birds.

(ii) We allow hunters on the refuge from 5 a.m. until 10 p.m.

(3) Big game hunting. We allow deer, elk, and moose hunting on designated areas of the refuge subject to the following conditions:

(i) We only allow the use of portable tree stands and ground blinds. You must remove stands and blinds from the refuge at the end of each day's hunt (see § 27.93 of this chapter).

(ii) The condition set forth at paragraph (kkk)(2)(ii) of this section applies.

(iii) We prohibit entry to the refuge before 12 p.m. (noon) on the first day of the respective bow, gun, or muzzleloader deer hunting seasons.

(iv) You may only possess nontoxic ammunition when hunting elk (see § 32.2(k)).

(4) Sport fishing. We allow sport fishing on designated areas of the refuge subject to the following conditions:

(i) We allow the use of fishing boats, canoes, kayaks, and float tubes in designated boat fishing areas from Lake Darling Dam north to State Highway 28 (Greene) crossing for fishing from May 1 through September 30.

(ii) We allow fishing from nonmotorized vessels only on the Beaver Lodge Canoe Trail from May 1 through September 30.

(iii) We allow boating and fishing from vessels on the Souris River from Mouse River Park to the north boundary of the refuge from May 1 through September 30.

(iv) We allow snowmobiles, all-terrain vehicles (ATVs), utility terrain vehicles (UTVs), motor vehicles, and fish houses on the ice as conditions allow from Lake Darling Dam north to Carter Dam (Dam 41) for ice fishing.

(v) We allow you to place fish houses overnight on the ice of Lake Darling as governed by State regulations.

(vi) We allow anglers to place portable fish houses on the Souris River north of Carter Dam (Dam 41) and south of Lake Darling Dam for ice fishing, but anglers must remove the fish houses from the refuge at the end of each day's fishing activity (see § 27.93 of this chapter).

(vii) We allow anglers on the refuge from 5 a.m. until 10 p.m.

* * * * *

11. Amend § 32.62 by revising and republishing paragraph (p) to read as follows:

§ 32.62 Texas.

* * * * *

(p) Trinity River National Wildlife Refuge—(1) Migratory game bird hunting. We allow hunting of duck, merganser, and coot on designated areas of the refuge subject to the following conditions:

(i) We only allow hunting on Champion Lake with a refuge-issued permit (signed hunt brochure).

(ii) We only allow hunting on Champion Lake on Saturdays and Sundays during the State duck season. Hunters may not enter the refuge until 4:30 a.m. and must be out of the hunt area by 12 p.m. (noon).

(iii) We allow the use of dogs when retrieving game.

(iv) Hunters age 16 and younger must be under the direct supervision of an adult age 17 or older.

(v) We require a minimum distance between hunt parties of 150 yards (135 meters).

(vi) We allow motors of 10 horsepower or less on Champion Lake.

(2) Upland game hunting. We allow hunting for squirrel, and incidental take of rabbit, on designated areas of the refuge subject to the following conditions:

(i) We require hunters to possess a permit issued by Texas Parks and Wildlife Department (TPWD). Permits are issued by a lottery drawing. The hunter must carry the nontransferable permit at all times while hunting.

(ii) The condition set forth at paragraph (p)(1)(iii) of this section applies.

(iii) We allow all-terrain vehicle use for hunters with disabilities in designated units.

(iv) We require a minimum distance between hunt parties of 200 yards (180 meters).

(v) Hunters may enter the refuge no earlier than 4:30 a.m. We allow hunting from 30 minutes before legal sunrise to 30 minutes after legal sunset only during the days specified on the permit. Hunters must be off the refuge 1½ hours after legal sunset.

(vi) Hunters may place no more than one temporary stand on the refuge. Hunters may place the stand during the scouting week before the hunt begins and must remove it the day the hunt ends (see § 27.93 of this chapter). Hunters must label blinds with the name of the permit holder.

(3) Big game hunting. We allow hunting of white-tailed deer, and incidental take of feral hog, on designated areas of the refuge subject to the following conditions:

(i) We require hunters to possess a TPWD-issued permit. Permits are issued by a lottery drawing. The hunter must carry the nontransferable permit at all times while hunting.

(ii) The conditions set forth at paragraphs (p)(1)(iii) and (p)(2)(iii) through (vi) of this section apply.

(iii) We allow archery hunting of white-tailed deer during the refuge designated 23-day archery season.

(iv) We allow gun hunting of white-tailed deer during the State-designated general gun season in two 9-day “mini-seasons” and during the State-designated muzzleloader season.

(4) Sport fishing. We allow fishing on designated areas of the refuge subject to the following conditions:

(i) We only allow fishing with pole and line, rod and reel, or hand-held line.

(ii) We prohibit the use of trotlines, setlines, bows and arrows, gigs, spears, fish traps, crab/crawfish traps, and/or nets.

(iii) We prohibit the harvesting of frog or turtle (see § 27.21 of this chapter).

(iv) We allow fishing from legal sunrise to legal sunset.

12. Amend § 32.66 by revising and republishing paragraph (c) to read as follows:

§ 32.66 Washington.

* * * * *

(c) Conboy Lake National Wildlife Refuge—(1) Migratory game bird hunting. We allow hunting of goose, duck, coot, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(2)-(4) [Reserved]

* * * * *

13. Amend § 32.67 by revising and republishing paragraph (a) to read as follows:

§ 32.67 West Virginia.

* * * * *

(a) Canaan Valley National Wildlife Refuge—(1) Migratory game bird hunting. We allow hunting of goose, duck, rail, coot, gallinule, mourning dove, snipe, and woodcock on designated areas of the refuge subject to the following conditions:

(i) We require each hunter to possess and carry a signed refuge hunting brochure (signed brochure).

(ii) Hunters may enter the refuge 1 hour before legal sunrise and must exit the refuge, including parking areas, no later than 1 hour after legal sunset.

(iii) We prohibit overnight parking except by Special Use Permit (FWS Form 3-1383-G) on Forest Road 80.

(iv) We allow the use of dogs consistent with State regulations.

(v) We prohibit dog training except during legal hunting seasons.

(vi) You may only use or possess approved lead-free shot shells and ammunition while in the Big Cove Unit (see § 32.2(k)).

(2) Upland game hunting. We allow the hunting of ruffed grouse, squirrel, cottontail rabbit, snowshoe hare, red fox, gray fox, bobcat, woodchuck, coyote, opossum, striped skunk, and raccoon on designated areas of the refuge subject to the following conditions:

(i) The conditions set forth at paragraphs (a)(1)(i), (iv), (v), and (vi) of this section apply.

(ii) You may hunt coyote, raccoon, opossum, skunk, and fox at night, but you must obtain a Special Use Permit (FWS Form 3-1383-G) at the refuge headquarters before hunting.

(iii) We only allow hunting in the No Rifle Zones with the following equipment: archery (including crossbow), shotgun, or muzzleloader.

(iv) We prohibit the hunting of upland game species from March 1 through August 31.

(3) Big game hunting. We allow the hunting of white-tailed deer, black bear, and turkey on designated areas of the refuge subject to the following conditions:

(i) The conditions set forth at paragraphs (a)(1)(i), (iv), (vi), and (a)(2)(iii) of this section apply.

(ii) We allow the use of dogs for hunting black bear during the gun season.

(iii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following condition: We prohibit the use of lead fishing tackle on designated areas of the refuge.

* * * * *

14. Amend § 32.68 by revising and republishing paragraph (d) to read as follows:

§ 32.68 Wisconsin.

* * * * *

(d) Horicon National Wildlife Refuge—(1) Migratory game bird hunting. We allow hunting of goose, duck, coot, common moorhen, and American woodcock on designated areas of the refuge subject to the following condition: We allow only participants in the Learn to Hunt and other special programs to hunt goose, duck, coot, and common moorhen.

(2) Upland game hunting. We allow hunting of wild turkey, ring-necked pheasant, gray partridge, ruffed grouse, squirrel, cottontail rabbit, snowshoe hare, raccoon, opossum, striped skunk, red fox, gray fox, coyote, and bobcat on designated areas of the refuge subject to the following conditions:

(i) For hunting, you may use or possess only approved nontoxic shot shells while in the field, including shot shells used for hunting wild turkey (see § 32.2(k)).

(ii) We prohibit night hunting of upland game from 30 minutes after legal sunset until 30 minutes before legal sunrise the following day.

(iii) We allow the use of dogs while hunting upland game (except raccoon, opossum, striped skunk, red fox, gray fox, coyote, and bobcat), provided the dog is under the immediate control of the hunter at all times.

(iv) Coyote, red fox, gray fox, and bobcat hunting begins on the first day of the traditional 9-day gun deer season.

(v) Coyote hunting ends on the last day of the season for fox.

(vi) You may only hunt striped skunk and opossum during the season for raccoon.

(vii) You may only hunt snowshoe hare during the season for cottontail rabbit.

(viii) Hunters may enter the refuge no earlier than 2 hours before legal shooting hours and must exit the refuge no later than 2 hours after legal shooting hours.

(3) Big game hunting. We allow hunting of white-tailed deer and black bear in designated areas of the refuge subject to the following conditions:

(i) You must remove all boats, decoys, game cameras, blinds, blind materials, stands, platforms, and other personal equipment brought onto the refuge at the end of each day's hunt (see § 27.93 of this chapter). We prohibit hunting from any stand left up overnight.

(ii) We prohibit hunting bear with dogs.

(iii) Hunters must possess a refuge permit (FWS Form 3-2439, Hunt Application/Permit—National Wildlife Refuge System) to hunt in Area E (surrounding the office/visitor center).

(iv) The condition set forth at paragraph (d)(2)(viii) applies.

(v) Any ground blind used during any gun deer season must display at least 144 square inches (929 square centimeters) of solid-blaze-orange or fluorescent pink material visible from all directions.

(4) Sport fishing. We allow fishing on designated areas of the refuge subject to the following conditions:

(i) We only allow bank fishing or fishing through the ice.

(ii) We prohibit the use of fishing weights or lures containing lead.

(iii) We prohibit the taking of any mussel (clam), crayfish, frog, leech, or turtle species by any method on the refuge (see § 27.21 of this chapter).

(iv) We allow fishing in designated areas from legal sunrise to legal sunset each day.

* * * * *

Shannon A. Estenoz,
Assistant Secretary for Fish and Wildlife and Parks.

[FR Doc. 2024-25905 Filed 11-6-24; 8:45 am]

BILLING CODE 4333-15-P